DEPARTMENT OF TRANSPORTATION

Federal Aviation Administration

14 CFR Part 13

Office of the Secretary

14 CFR Part 383

Federal Aviation Administration

14 CFR Part 406

Saint Lawrence Seaway Development Corporation

33 CFR Part 401

Maritime Administration

46 CFR Parts 221, 307, 340, and 356

Pipeline and Hazardous Materials Safety Administration

49 CFR Parts 107, 171, and 190

Federal Railroad Administration

49 CFR Parts 209, 213, 214, 215, 216, 217, 218, 219, 220, 221, 222, 223, 224, 225, 227, 228, 229, 230, 231, 232, 233, 234, 235, 236, 237, 238, 239, 240, 241, 242, 243, 244, 270, and 272

Federal Motor Carrier Safety Administration

49 CFR Part 386

National Highway Traffic Safety Administration

49 CFR Part 578

RIN 2105-AE70

Revisions to Civil Penalty Amounts

AGENCY: Department of Transportation (DOT or the Department).

ACTION: Final rule.

SUMMARY: In accordance with the Federal Civil Penalties Inflation Adjustment Act Improvements Act of 2015, this final rule provides the 2018 inflation adjustment to civil penalty amounts that may be imposed for violations of certain DOT regulations. This rule also finalizes the National Highway Traffic Safety Administration's and the Office of the Secretary's catch-up inflation adjustment interim final rules required by the same Act.

DATES: Effective November 27, 2018.

FOR FURTHER INFORMATION CONTACT: Alex Zektser, Attorney-Advisor, Office of the General Counsel, U.S. Department of Transportation, 1200 New Jersey Ave. SE, Washington, DC 20590, 202-366-9301, alexander.zektser@dot.gov (email).

SUPPLEMENTARY INFORMATION:

Authority for This Rulemaking

This rule implements the Federal Civil Penalties Inflation Adjustment Act of 1990 (FCPIAA), Public Law 101-410, as amended by the Federal Civil Penalties Inflation Adjustment Act Improvements Act of 2015 (2015 Act), Public Law 114-74, 129 Stat. 599, codified at 28 U.S.C. 2461 note. The FCPIAA and the 2015 Act require federal agencies to adjust minimum and maximum civil penalty amounts for inflation to preserve their deterrent impact. The 2015 Act amended the formula and frequency of inflation adjustments. It required an initial catch-up adjustment in the form of an interim final rule, followed by annual adjustments of civil penalty amounts using a statutorily mandated formula. Section 4(b)(2) of the 2015 Act specifically directs that the annual adjustment be accomplished through final rule without notice and comment. This rule is effective immediately.

The Department's authorities over the specific civil penalty regulations being amended by this rule are provided in the preamble discussion below.

I. Background

On November 2, 2015, the President signed into law the 2015 Act, which amended FCPIAA, to improve the effectiveness of civil monetary penalties and to maintain their deterrent effect. The 2015 Act requires federal agencies to: (1) Adjust the level of civil monetary penalties with an initial “catch-up” adjustment through an interim final rule (IFR); and (2) make subsequent annual adjustments for inflation.

The 2015 Act directed the Office of Management and Budget (OMB) to issue guidance on implementing the required annual inflation adjustment no later than December 15 of each year.¹ On December 15, 2017, OMB released this required guidance, in OMB Memorandum M-18-03, which provides instructions on how to calculate the 2018 annual adjustment. To derive the 2018 adjustment, the Department must multiply the maximum or minimum penalty amount by the percent change between the October 2017 Consumer Price Index for All Urban Consumers (CPI-U) and the October 2016 CPI-U. In this case, as explained in OMB Memorandum M-18-03, the percent change between the October 2017 CPI-U (246.663) and the October 2016 CPI-U (241.729) is 1.02041.

¹ 28 U.S.C. 2461 note.

II. Dispensing With Notice and Comment

This final rule is being published without notice and comment and with an immediate effective date.

The 2015 Act provides clear direction for how to adjust the civil penalties, and clearly states at section 4(b)(2) that this adjustment shall be made “notwithstanding section 553 of title 5, United States Code.” By operation of the 2015 Act, DOT must publish an annual adjustment by January 15 of every year, and the new levels take effect upon publication of the rule. NHTSA and OST are finalizing their “catch-up” adjustment interim final rules in this annual adjustment. Pursuant to the 2015 Act and notwithstanding 5 U.S.C. 553, NHTSA and OST adopt their interim final rules as final and superseded by this rule. Accordingly, DOT is publishing this final rule without prior notice and comment, and with an immediate effective date.

Additionally, the Act clearly prescribes the frequency with which civil monetary penalties must be reviewed and adjusted. NHTSA's regulations at 49 CFR 578.5 stating that the Administrator will review and, if necessary, adjust its civil penalties every four years is superseded by the Act. NHTSA has no discretion to review and adjust its civil penalties at different intervals, and is therefore conforming its regulations to the requirements of the Act, as discussed in section IV below. Accordingly, and pursuant to 5 U.S.C. 553(b)(3)(B), 553(d)(3), DOT finds that good cause exists for immediate implementation of this provision of the final rule without prior notice and comment, and with an immediate effective date.

III. Discussion of the Final Rule

In 2016, OST and DOT's operating administrations with civil monetary penalties promulgated the “catch up” IFR required by the 2015 Act. OST and NHTSA have not yet finalized their IFRs, and accordingly, this rule both finalizes OST and NHTSA's “catch up” IFRs and makes the annual inflation adjustment required by the 2015 Act. All other DOT operating administrations have already finalized their “catch up” IFRs and for those operating administrations, this rule makes the annual inflation adjustment required by the 2015 Act.

The Department emphasizes that this rule adjusts penalties prospectively, and therefore the penalty adjustments made by this rule will apply only to violations that take place after this rule becomes effective. This rule also does not change previously assessed or enforced penalties that DOT is actively collecting or has collected.

A. OST “Catch-Up” IFR and 2017 and 2018 Adjustments

OST's “catch-up” IFR is finalized in this rule, and superseded by the annual inflation adjustment discussed in the next section. Additionally, OST is updating its civil monetary penalties to reflect inflation for both 2017 and 2018 in this rule. OST did not timely complete the 2017 annual adjustment for civil penalties contained in 49 U.S.C. 46301. However, consistent with the intent of the law and to ensure uniform year-over-year application of the 2015 Act, the 2018 update is being calculated as if the 2017 update had occurred. No violations will be assessed at the 2017 inflation adjustment amount. It is included in the chart below to clearly show the Department's calculations.

OST's 2018 civil penalty adjustments are summarized in the chart below.

Description | Citation | Existing penalty | Unpromulgated 2017 adjustment (existing penalty × 1.01636) | New penalty (2017 adjustment × 1.02041)
General civil penalty for violations of certain aviation economic regulations and statutes | 49 U.S.C. 46301(a)(1) | $32,140 | $32,666 | $33,333
General civil penalty for violations of certain aviation economic regulations and statutes involving an individual or small business concern | 49 U.S.C. 46301(a)(1) | 1,414 | 1,437 | 1,466
Civil penalties for individuals or small businesses for violations of most provisions of Chapter 401 of Title 49, including the anti-discrimination provisions of sections 40127 and 41705 and rules and orders issued pursuant to these provisions | 49 U.S.C. 46301(a)(5)(A) | 12,856 | 13,066 | 13,333
Civil penalties for individuals or small businesses for violations of 49 U.S.C. 41719 and rules and orders issued pursuant to that provision | 49 U.S.C. 46301(a)(5)(C) | 6,428 | 6,533 | 6,666
Civil penalties for individuals or small businesses for violations of 49 U.S.C. 41712 or consumer protection rules and orders issued pursuant to that provision | 49 U.S.C. 46301(a)(5)(D) | 3,214 | 3,267 | 3,334

B. FAA 2018 Annual Adjustment

In 2016, Congress enacted 49 U.S.C. 46320. It imposes a civil penalty of not more than $20,000 for operating an unmanned aircraft where the operator knowingly or recklessly interferes with a wildfire suppression, law enforcement, or emergency response effort. The FAA did not adjust this maximum civil penalty for inflation in 2017 because, per OMB guidance, new civil monetary penalties are not adjusted for inflation the first year they are in effect.² Therefore, the FAA is applying the 2018 adjustment directly to the statutory maximum of $20,000. The 2018 adjustment is therefore $20,408.

² OMB Memorandum M-16-06.

The FAA's 2018 adjustments are summarized in the following chart:

Description | Citation | Existing penalty | New penalty (existing penalty × 1.02041)
Violation of hazardous materials transportation law | 49 U.S.C. 5123(a)(1) | $78,376 | $79,976
Violation of hazardous materials transportation law resulting in death, serious illness, severe injury, or substantial property destruction | 49 U.S.C. 5123(a)(2) | 182,877 | 186,610
Minimum penalty for violation of hazardous materials transportation law relating to training | 49 U.S.C. 5123(a)(3) | 471 | 481
Maximum penalty for violation of hazardous materials transportation law relating to training | 49 U.S.C. 5123(a)(3) | 78,376 | 79,976
Violation by a person other than an individual or small business concern under 49 U.S.C. 46301(a)(1)(A) or (B) | 49 U.S.C. 46301(a)(1) | 32,666 | 33,333
Violation by an airman serving as an airman under 49 U.S.C. 46301(a)(1)(A) or (B) (but not covered by 46301(a)(5)(A) or (B)) | 49 U.S.C. 46301(a)(1) | 1,437 | 1,466
Violation by an individual or small business concern under 49 U.S.C. 46301(a)(1)(A) or (B) (but not covered in 49 U.S.C. 46301(a)(5)) | 49 U.S.C. 46301(a)(1) | 1,437 | 1,466
Violation by an individual or small business concern (except an airman serving as an airman) under 49 U.S.C. 46301(a)(5)(A)(i) or (ii) | 49 U.S.C. 46301(a)(5)(A) | 13,066 | 13,333
Violation by an individual or small business concern related to the transportation of hazardous materials | 49 U.S.C. 46301(a)(5)(B)(i) | 13,066 | 13,333
Violation by an individual or small business concern related to the registration or recordation under 49 U.S.C. chapter 441, of an aircraft not used to provide air transportation | 49 U.S.C. 46301(a)(5)(B)(ii) | 13,066 | 13,333
Violation by an individual or small business concern of 49 U.S.C. 44718(d), relating to limitation on construction or establishment of landfills | 49 U.S.C. 46301(a)(5)(B)(iii) | 13,066 | 13,333
Violation by an individual or small business concern of 49 U.S.C. 44725, relating to the safe disposal of life-limited aircraft parts | 49 U.S.C. 46301(a)(5)(B)(iv) | 13,066 | 13,333
Tampering with a smoke alarm device | 49 U.S.C. 46301(b) | 4,194 | 4,280
Knowingly providing false information about alleged violation involving the special aircraft jurisdiction of the United States | 49 U.S.C. 46302 | 22,957 | 23,426
Interference with cabin or flight crew | 49 U.S.C. 46318 | 34,731 | 35,440
Permanent closure of an airport without providing sufficient notice | 49 U.S.C. 46319 | 13,066 | 13,333
Operating an unmanned aircraft and in so doing knowingly or recklessly interfering with a wildfire suppression, law enforcement, or emergency response effort | 49 U.S.C. 46320 | 20,000 | 20,408
Violation of 51 U.S.C. 50901-50923, a regulation issued under these statutes, or any term or condition of a license or permit issued or transferred under these statutes | 51 U.S.C. 50917(c) | 229,562 | 234,247

In addition to the civil penalties listed in the above chart, FAA regulations also provide for maximum civil penalties for violation of 49 U.S.C. 47528-47530, relating to the prohibition of operating certain aircraft not complying with stage 3 noise levels. Those civil penalties are identical to the civil penalties imposed under 49 U.S.C. 46301(a)(1) and (a)(5), which are detailed in the above chart, and therefore, the noise-level civil penalties will be adjusted in the same manner as the section 46301(a)(1) and (a)(5) civil penalties.

C. NHTSA “Catch-Up” IFR and 2017 and 2018 Adjustments

NHTSA's “catch-up” IFR is finalized in this rule, and superseded by the annual inflation adjustment discussed in the next section. Additionally, NHTSA is updating its civil monetary penalties to reflect inflation for both 2017 and 2018 in this rule. NHTSA did not timely complete the 2017 annual adjustment for its civil penalty authority. However, consistent with the intent of the law and to ensure uniform year-over-year application of the 2015 Act, the 2018 update is being calculated as if the 2017 update had occurred. No violations will be assessed at the 2017 inflation adjustment amount. It is included in the chart below to clearly show the Department's calculations. NHTSA's 2018 civil penalty adjustments are summarized in the chart below.³

³ On December 28, 2016, NHTSA published a final rule regarding some aspects of its IFR provisions regarding Corporate Average Fuel Economy (CAFE) penalties. 81 FR 95489 (Dec. 28, 2016). On July 12, 2017, NHTSA announced that it was reconsidering that final rule. 82 FR 32140 (July 12, 2017). Accordingly, the CAFE civil penalty provisions at 49 U.S.C. 32912(b)-(c) and 49 CFR 578.6(h)(2), which are the subject of the reconsideration, are not being adjusted in the final rule promulgated herein. Instead, they will be addressed in a separate final rule for which an NPRM has been issued. 83 FR 13904 (Apr. 2, 2018). The provision in 49 CFR 578.6(h)(1), establishing the maximum civil penalty for each violation of 49 U.S.C. 32911(a), will also be addressed in that separate notice.

Description | Citation | Existing penalty | Unpromulgated 2017 adjustment (existing penalty × 1.01636) | New penalty (2017 adjustment × 1.02041)
Maximum penalty amount for each violation of the Safety Act | 49 U.S.C. 30165(a)(1), 30165(a)(3) | $21,000 | $21,344 | $21,780.
Maximum penalty amount for a related series of violations of the Safety Act | 49 U.S.C. 30165(a)(1), 30165(a)(3) | 105,000,000 | 106,717,800 | 108,895,910.
Maximum penalty per school bus related violation of the Safety Act | 49 U.S.C. 30165(a)(2)(A) | 11,940 | 12,135 | 12,383.
Maximum penalty amount for a series of school bus related violations of the Safety Act | 49 U.S.C. 30165(a)(2)(B) | 17,909,550 | 18,202,550 | 18,574,064.
Maximum penalty per violation for filing false or misleading reports | 49 U.S.C. 30165(a)(4) | 5,141 | 5,225 | 5,332.
Maximum penalty amount for a series of violations related to filing false or misleading reports | 49 U.S.C. 30165(a)(4) | 1,028,190 | 1,045,011 | 1,066,340.
Maximum penalty amount for each violation of the reporting requirements related to maintaining the National Motor Vehicle Title Information System | 49 U.S.C. 30505 | 1,677 | 1,704 | 1,739.
Maximum penalty amount for each violation of a bumper standard under the Motor Vehicle Information and Cost Savings Act (Pub. L. 92-513, 86 Stat. 953, (1972)) | 49 U.S.C. 32507(a) | 2,750 | 2,795 | 2,852.
Maximum penalty amount for a series of violations of a bumper standard under the Motor Vehicle Information and Cost Savings Act (Pub. L. 92-513, 86 Stat. 953, (1972)) | 49 U.S.C. 32507(a) | 3,062,500 | 3,112,603 | 3,176,131.
Maximum penalty amount for each violation of 49 U.S.C. 32308(a) related to providing information on crashworthiness and damage susceptibility | 49 U.S.C. 32308(b) | 2,750 | 2,795 | 2,852.
Maximum penalty amount for a series of violations of 49 U.S.C. 32308(a) related to providing information on crashworthiness and damage susceptibility | 49 U.S.C. 32308(b) | 1,500,000 | 1,524,540 | 1,555,656.
Maximum penalty for each violation related to the tire fuel efficiency information program | 49 U.S.C. 32308(c) | 56,917 | 57,848 | 59,029.
Maximum civil penalty for willfully failing to affix, or failing to maintain, the label requirement in the American Automobile Labeling Act (Pub. L. 102-388, 106 Stat. 1556 (1992)) | 49 U.S.C. 32309 | 1,677 | 1,704 | 1,739.
Maximum penalty amount per violation related to odometer tampering and disclosure | 49 U.S.C. 32709 | 10,281 | 10,450 | 10,663.
Maximum penalty amount for a related series of violations related to odometer tampering and disclosure | 49 U.S.C. 32709 | 1,028,190 | 1,045,011 | 1,066,340.
Maximum penalty amount per violation related to odometer tampering and disclosure with intent to defraud | 49 U.S.C. 32710 | 10,281 | 10,450 | Three times actual damages or $10,663, whichever is greater.
Maximum penalty amount for each violation of the Motor Vehicle Theft Law Enforcement Act of 1984 (Vehicle Theft Act), sec. 608, Public Law 98-547, 98 Stat. 2762 (1984) | 49 U.S.C. 33115(a) | 2,259 | 2,296 | 2,343.
Maximum penalty amount for a related series of violations of the Motor Vehicle Theft Law Enforcement Act of 1984 (Vehicle Theft Act), sec. 608, Public Law 98-547, 98 Stat. 2762 (1984) | 49 U.S.C. 33115(a) | 564,668 | 573,906 | 585,619.
Maximum civil penalty for violations of the Anti-Car Theft Act (Pub. L. 102-519, 106 Stat. 3393 (1992)) related to operation of a chop shop | 49 U.S.C. 33115(b) | 167,728 per day | 170,472 per day | 173,951 per day.
Maximum civil penalty for a violation under the medium- and heavy-duty vehicle fuel efficiency program | 49 U.S.C. 32902 | 39,391 | 40,035 | 40,852.

D. FMCSA 2018 Annual Adjustment

FMCSA's civil penalties affected by this rule are all located in Appendices A and B to 49 CFR part 386. The 2018 adjustments to these civil penalties are summarized in the chart below.

Description | Citation | Existing penalty | New penalty (existing penalty × 1.02041)
Appendix A II Subpoena | 49 U.S.C. 525 | $1,045 | $1,066
Appendix A II Subpoena | 49 U.S.C. 525 | 10,450 | 10,663
Appendix A IV (a) Out-of-service order (operation of CMV by driver) | 49 U.S.C. 521(b)(7) | 1,811 | 1,848
Appendix A IV (b) Out-of-service order (requiring or permitting operation of CMV by driver) | 49 U.S.C. 521(b)(7)) | 18,107 | 18,477
Appendix A IV (c) Out-of-service order (operation by driver of CMV or intermodal equipment that was placed out of service) | 49 U.S.C. 521(b)(7) | 1,811 | 1,848
Appendix A IV (d) Out-of-service order (requiring or permitting operation of CMV or intermodal equipment that was placed out of service) | 49 U.S.C. 521(b)(7) | 18,107 | 18,477
Appendix A IV (e) Out-of-service order (failure to return written certification of correction) | 49 U.S.C. 521(b)(2)(B) | 906 | 924
Appendix A IV (g) Out-of-service order (failure to cease operations as ordered) | 49 U.S.C. 521(b)(2)(F) | 26,126 | 26,659
Appendix A IV (h) Out-of-service order (operating in violation of order) | 49 U.S.C. 521(b)(7) | 22,957 | 23,426
Appendix A IV (i) Out-of-service order (conducting operations during suspension or revocation for failure to pay penalties) | 49 U.S.C. 521(b)(2)(A) and (b)(7)) | 14,739 | 15,040
Appendix A IV (j) (conducting operations during suspension or revocation) | 49 U.S.C. 521(b)(7) | 22,957 | 23,426
Appendix B (a)(1) Recordkeeping—maximum penalty per day | 49 U.S.C. 521(b)(2)(B)(i) | 1,214 | 1,239
Appendix B (a)(1) Recordkeeping—maximum total penalty | 49 U.S.C. 521(b)(2)(B)(i) | 12,135 | 12,383
Appendix B (a)(2) Knowing falsification of records | 49 U.S.C. 521(b)(2)(B)(ii) | 12,135 | 12,383
Appendix B (a)(3) Non-recordkeeping violations | 49 U.S.C. 521(b)(2)(A) | 14,739 | 15,040
Appendix B (a)(4) Non-recordkeeping violations by drivers | 49 U.S.C. 521(b)(2)(A) | 3,685 | 3,760
Appendix B (a)(5) Violation of 49 CFR 392.5 (first conviction) | 49 U.S.C. 31310(i)(2)(A) | 3,034 | 3,096
Appendix B (a)(5) Violation of 49 CFR 392.5 (second or subsequent conviction) | 49 U.S.C. 31310(i)(2)(A) | 6,068 | 6,192
Appendix B (b) Commercial driver's license (CDL) violations | 49 U.S.C. 521(b)(2)(C) | 5,479 | 5,591
Appendix B (b)(1): Special penalties pertaining to violation of out-of-service orders (first conviction) | 49 U.S.C. 31310(i)(2)(A) | 3,034 | 3,096
Appendix B (b)(1) Special penalties pertaining to violation of out-of-service orders (second or subsequent conviction) | 49 U.S.C. 31310(i)(2)(A) | 6,068 | 6,192
Appendix B (b)(2) Employer violations pertaining to knowingly allowing, authorizing employee violations of out-of-service order (minimum penalty) | 49 U.S.C. 521(b)(2)(C) | 5,479 | 5,591
Appendix B (b)(2) Employer violations pertaining to knowingly allowing, authorizing employee violations of out-of-service order (maximum penalty) | 49 U.S.C. 31310(i)(2)(C) | 30,337 | 30,956
Appendix B (b)(3) Special penalties pertaining to railroad-highway grade crossing violations | 49 U.S.C. 31310(j)(2)(B) | 15,727 | 16,048
Appendix B (d) Financial responsibility violations | 49 U.S.C. 31138(d)(1), 31139(g)(1) | 16,169 | 16,499
Appendix B (e)(1) Violations of Hazardous Materials Regulations (HMRs) and Safety Permitting Regulations (transportation or shipment of hazardous materials) | 49 U.S.C. 5123(a)(1) | 78,376 | 79,976
Appendix B (e)(2) Violations of Hazardous Materials Regulations (HMRs) and Safety Permitting Regulations (training)—minimum penalty | 49 U.S.C. 5123(a)(3) | 471 | 481
Appendix B (e)(2): Violations of Hazardous Materials Regulations (HMRs) and Safety Permitting Regulations (training)—maximum penalty | 49 U.S.C. 5123(a)(1) | 78,376 | 79,976
Appendix B (e)(3) Violations of Hazardous Materials Regulations (HMRs) and Safety Permitting Regulations (packaging or container) | 49 U.S.C. 5123(a)(1) | 78,376 | 79,976
Appendix B (e)(4): Violations of Hazardous Materials Regulations (HMRs) and Safety Permitting Regulations (compliance with FMCSRs) | 49 U.S.C. 5123(a)(1) | 78,376 | 79,976
Appendix B (e)(5) Violations of Hazardous Materials Regulations (HMRs) and Safety Permitting Regulations (death, serious illness, severe injury to persons; destruction of property) | 49 U.S.C. 5123(a)(2) | 182,877 | 186,610
Appendix B (f)(1) Operating after being declared unfit by assignment of a final “unsatisfactory” safety rating (generally) | 49 U.S.C. 521(b)(2)(F) | 26,126 | 26,659
Appendix B (f)(2) Operating after being declared unfit by assignment of a final “unsatisfactory” safety rating (hazardous materials)—maximum penalty | 49 U.S.C. 5123(a)(1) | 78,376 | 79,976
Appendix B (f)(2): Operating after being declared unfit by assignment of a final “unsatisfactory” safety rating (hazardous materials)—maximum penalty if death, serious illness, severe injury to persons; destruction of property | 49 U.S.C. 5123(a)(2) | 182,877 | 186,610
Appendix B (g)(1): Violations of the commercial regulations (CR) (property carriers) | 49 U.S.C. 14901(a) | 10,450 | 10,663
Appendix B (g)(2) Violations of the CRs (brokers) | 49 U.S.C. 14916(c) | 10,450 | 10,663
Appendix B (g)(3) Violations of the CRs (passenger carriers) | 49 U.S.C. 14901(a) | 26,126 | 26,659
Appendix B (g)(4) Violations of the CRs (foreign motor carriers, foreign motor private carriers) | 49 U.S.C. 14901(a) | 10,450 | 10,663
Appendix B (g)(5) Violations of the CRs (foreign motor carriers, foreign motor private carriers before implementation of North American Free Trade Agreement land transportation provisions)—maximum penalty for intentional violation | 49 U.S.C. 14901 note | 14,371 | 14,664
Appendix B (g)(5) Violations of the CRs (foreign motor carriers, foreign motor private carriers before implementation of North American Free Trade Agreement land transportation provisions)—maximum penalty for a pattern of intentional violations | 49 U.S.C. 14901 note | 35,929 | 36,662
Appendix B (g)(6) Violations of the CRs (motor carrier or broker for transportation of hazardous wastes)—minimum penalty | 49 U.S.C. 14901(b) | 20,900 | 21,327
Appendix B (g)(6) Violations of the CRs (motor carrier or broker for transportation of hazardous wastes)—maximum penalty | 49 U.S.C. 14901(b) | 41,801 | 42,654
Appendix B (g)(7): Violations of the CRs (HHG carrier or freight forwarder, or their receiver or trustee) | I49 U.S.C. 14901(d)(1) | 1,572 | 1,604
Appendix B (g)(8) Violation of the CRs (weight of HHG shipment, charging for services)—minimum penalty for first violation | 49 U.S.C. 14901(e) | 3,146 | 3,210
Appendix B (g)(8) Violation of the CRs (weight of HHG shipment, charging for services) subsequent violation | 49 U.S.C. 14901(e) | 7,864 | 8,025
Appendix B (g)(10) Tariff violations | 49 U.S.C. 13702, 14903 | 157,274 | 160,484
Appendix B (g)(11) Additional tariff violations (rebates or concessions)—first violation | 49 U.S.C. 14904(a) | 314 | 320
Appendix B (g)(11) Additional tariff violations (rebates or concessions)—subsequent violations | 49 U.S.C. 14904(a) | 393 | 401
Appendix B (g)(12): Tariff violations (freight forwarders)—maximum penalty for first violation | 49 U.S.C. 14904(b)(1) | 787 | 803
Appendix B (g)(12): Tariff violations (freight forwarders)—maximum penalty for subsequent violations | 49 U.S.C. 14904(b)(1) | 3,146 | 3,210
Appendix B (g)(13): Service from freight forwarder at less than rate in effect—maximum penalty for first violation | 49 U.S.C. 14904(b)(2) | 787 | 803
Appendix B (g)(13): Service from freight forwarder at less than rate in effect—maximum penalty for subsequent violation(s) | 49 U.S.C. 14904(b)(2) | 3,146 | 3,210
Appendix B (g)(14): Violations related to loading and unloading motor vehicles | 49 U.S.C. 14905 | 15,727 | 16,048
Appendix B (g)(16): Reporting and recordkeeping under 49 U.S.C. subtitle IV, part B (except 13901 and 13902(c)—minimum penalty | 49 U.S.C. 14901 | 1,045 | 1,066
Appendix B (g)(16): Reporting and recordkeeping under 49 U.S.C. subtitle IV, part B—maximum penalty | 49 U.S.C. 14907 | 7,864 | 8,025
Appendix B (g)(17): Unauthorized disclosure of information | 49 U.S.C. 14908 | 3,146 | 3,210
Appendix B (g)(18): Violation of 49 U.S.C. subtitle IV, part B, or condition of registration | 49 U.S.C. 14910 | 787 | 803
Appendix B (g)(21)(i): Knowingly and willfully fails to deliver or unload HHG at destination | 49 U.S.C. 14905 | 15,727 | 16,048
Appendix B (g)(22): HHG broker estimate before entering into an agreement with a motor carrier | 49 U.S.C. 14901(d)(2) | 12,135 | 12,383
Appendix B (g)(23): HHG transportation or broker services—registration requirement | 49 U.S.C. 14901 (d)(3) | 30,337 | 30,956
Appendix B (h): Copying of records and access to equipment, lands, and buildings—maximum penalty per day | 49 U.S.C. 521(b)(2)(E) | 1,214 | 1,239
Appendix B (h): Copying of records and access to equipment, lands, and buildings—maximum total penalty | 49 U.S.C. 521(b)(2)(E) | 12,135 | 12,383
Appendix B (i)(1): Evasion of regulations under 49 U.S.C. ch. 5, 51, subchapter III of 311 (except 31138 and 31139), 31302-31304, 31305(b), 31310(g)(1)(A), 31502—minimum penalty for first violation | 49 U.S.C. 524 | 2,090 | 2,133
Appendix B (i)(1): Evasion of regulations under 49 U.S.C. ch. 5, 51, subchapter III of 311 (except 31138 and 31139), 31302-31304, 31305(b), 31310(g)(1)(A), 31502—maximum penalty for first violation | 49 U.S.C. 524 | 5,225 | 5,332
Appendix B (i)(1): Evasion of regulations under 49 U.S.C. ch. 5, 51, subchapter III of 311 (except 31138 and 31139), 31302-31304, 31305(b), 31310(g)(1)(A), 31502—minimum penalty for subsequent violation(s) | 49 U.S.C. 524 | 2,612 | 2,665
Appendix B (i)(1): Evasion of regulations under 49 U.S.C. ch. 5, 51, subchapter III of 311 (except 31138 and 31139), 31302-31304, 31305(b), 31310(g)(1)(A), 31502—maximum penalty for subsequent violation(s) | 49 U.S.C. 524 | 7,837 | 7,997
Appendix B (i)(2): Evasion of regulations under 49 U.S.C. subtitle IV, part B—minimum penalty for first violation | 49 U.S.C. 14906 | 2,090 | 2,133
Appendix B (i)(2): Evasion of regulations under 49 U.S.C. subtitle IV, part B—minimum penalty for subsequent violation(s) | 49 U.S.C. 14906 | 5,225 | 5,332

E. FRA 2018 Annual Adjustment

FRA's 2018 civil penalty adjustments are summarized in the chart below.

Description | Citation | Existing penalty | New penalty (existing penalty × 1.02041)
Minimum rail safety penalty | 49 U.S.C. ch. 213 | $853 | $870
Ordinary maximum rail safety penalty | 49 U.S.C. ch. 213 | 27,904 | 28,474
Maximum penalty for an aggravated rail safety violation | 49 U.S.C. ch. 213 | 111,616 | 113,894
Minimum penalty for hazardous materials training violations | 49 U.S.C. 5123 | 471 | 481
Maximum penalty for ordinary hazardous materials violations | 49 U.S.C. 5123 | 78,376 | 79,976
Maximum penalty for aggravated hazardous materials violations | 49 U.S.C. 5123 | 182,877 | 186,610

F. PHMSA 2018 Annual Adjustment

PHMSA's 2018 civil penalty adjustments are summarized in the chart below.

Description | Citation | Existing penalty | New penalty (existing penalty × 1.02041)
Maximum penalty for hazardous materials violation | 49 U.S.C. 5123 | $78,376 | $79,976
Maximum penalty for hazardous materials violation that results in death, serious illness, or severe injury to any person or substantial destruction of property | 49 U.S.C. 5123 | 182,877 | 186,610
Minimum penalty for hazardous materials training violations | 49 U.S.C. 5123 | 471 | 481
Maximum penalty for each pipeline safety violation | 49 U.S.C. 60122(a)(1) | 209,002 | 213,268
Maximum penalty for a related series of pipeline safety violations | 49 U.S.C. 60122(a)(1) | 2,090,022 | 2,132,679
Maximum penalty for liquefied natural gas pipeline safety violation | 49 U.S.C. 60122(a)(2) | 76,352 | 77,910
Maximum penalty for discrimination against employees providing pipeline safety information | 49 U.S.C. 60122(a)(3) | 1,214 | 1,239

G. MARAD 2018 Annual Adjustment

MARAD's 2018 civil penalty adjustments are summarized in the chart below.

Description | Citation | Existing penalty | New penalty (existing penalty × 1.02041)
Maximum civil penalty for a single violation of any provision under 46 U.S.C. Chapter 313 and all of Subtitle III related MARAD regulations, except for violations of 46 U.S.C. 31329 | 46 U.S.C. 31309 | $20,111 | $20,521
Maximum civil penalty for a single violation of 46 U.S.C. 31329 as it relates to the court sales of documented vessels | 46 U.S.C. 31330 | 50,276 | 51,302
Maximum civil penalty for a single violation of 46 U.S.C. 56101 as it relates to approvals required to transfer a vessel to a noncitizen | 46 U.S.C. 56101(e) | 19,246 | 19,639
Maximum civil penalty for failure to file an AMVER report | 46 U.S.C. 50113(b) | 127 | 130
Maximum civil penalty for violating procedures for the use and allocation of shipping services, port facilities and services for national security and national defense operations | 50 U.S.C. 4513 | 25,409 | 25,928
Maximum civil penalty for violations in applying for or renewing a vessel's fishery endorsement | 46 U.S.C. 12151 | 147,396 | 150,404

H. SLS 2018 Annual Adjustment

SLS' 2018 civil penalty adjustment is as follows:

Description | Citation | Existing penalty | New penalty (existing penalty × 1.02041)
Maximum civil penalty for each violation of the Seaway Rules and Regulations at 33 CFR part 401 | 33 U.S.C. 1232 | $90,063 | $91,901

IV. Conforming Change to 49 CFR 578.5

Currently, 49 CFR 578.5 specifies that the NHTSA Administrator will review the amount of civil penalties set forth in 49 CFR part 578 at least once every four years and, if appropriate, adjust them by rule. Since this no longer reflects the law, NHTSA is updating this provision to conform to the 2015 Act's requirement of annual inflationary adjustments to civil penalty amounts.

Regulatory Analysis and Notices

A. Executive Orders 12866 and 13563 and DOT Regulatory Policies and Procedures

This final rule has been evaluated in accordance with existing policies and procedures and is considered not significant under Executive Orders 12866 and 13563 or DOT's Regulatory Policies and Procedures; therefore, the rule has not been reviewed by the Office of Management and Budget (OMB) under Executive Order 12866.

B. Regulatory Flexibility Analysis

The Department has determined the Regulatory Flexibility Act of 1980 (RFA) (5 U.S.C. 601, et seq.) does not apply to this rulemaking. The RFA applies, in pertinent part, only when “an agency is required . . . to publish general notice of proposed rulemaking.” 5 U.S.C. 604(a).⁴ The Small Business Administration's A Guide for Government Agencies: How to Comply with the Regulatory Flexibility Act (2012), explains that:

⁴ Under 5 U.S.C. 603(a), the Regulatory Flexibility Act also applies when an agency “publishes a notice of proposed rulemaking for an interpretative rule involving the internal revenue laws of the United States.” However, this rule does not involve the internal revenue laws of the United States.

If, under the APA or any rule of general applicability governing federal grants to state and local governments, the agency is required to publish a general notice of proposed rulemaking (NPRM), the RFA must be considered [citing 5 U.S.C. 604(a)] . . . . If an NPRM is not required, the RFA does not apply.

As stated above, DOT has determined that good cause exists to publish this final rule without notice and comment procedures under the APA. Therefore, the RFA does not apply.

C. Executive Order 13132 (Federalism)

This final rule has been analyzed in accordance with the principles and criteria contained in Executive Order 13132 (“Federalism”). This regulation has no substantial direct effects on the States, the relationship between the national government and the States, or the distribution of power and responsibilities among the various levels of government. It does not contain any provision that imposes substantial direct compliance costs on State and local governments. It does not contain any new provision that preempts state law, because states are already preempted from regulating in this area under the Airline Deregulation Act, 49 U.S.C. 41713. Therefore, the consultation and funding requirements of Executive Order 13132 do not apply.

D. Executive Order 13175

This final rule has been analyzed in accordance with the principles and criteria contained in Executive Order 13175, Consultation and Coordination with Indian Tribal Governments. Because none of the measures in the rule have tribal implications or impose substantial direct compliance costs on Indian tribal governments, the funding and consultation requirements of Executive Order 13175 do not apply.

E. Paperwork Reduction Act

Under the Paperwork Reduction Act, before an agency submits a proposed collection of information to OMB for approval, it must publish a document in the Federal Register providing notice of and a 60-day comment period on, and otherwise consult with members of the public and affected agencies concerning, each proposed collection of information. This final rule imposes no new information reporting or record keeping necessitating clearance by the Office of Management and Budget.

F. National Environmental Policy Act

The Department has analyzed the environmental impacts of this final rule pursuant to the National Environmental Policy Act of 1969 (NEPA) (42 U.S.C. 4321 et seq.) and has determined that it is categorically excluded pursuant to DOT Order 5610.1C, Procedures for Considering Environmental Impacts (44 FR 56420, Oct. 1, 1979). Categorical exclusions are actions identified in an agency's NEPA implementing procedures that do not normally have a significant impact on the environment and therefore do not require either an environmental assessment (EA) or environmental impact statement (EIS). See 40 CFR 1508.4. In analyzing the applicability of a categorical exclusion, the agency must also consider whether extraordinary circumstances are present that would warrant the preparation of an EA or EIS. Id. Paragraph 4(c)(5) of DOT Order 5610.1C incorporates by reference the categorical exclusions for all DOT Operating Administrations. This action qualifies for a categorical exclusion in accordance with FAA Order 1050.1F, Environmental Impacts: Policies and Procedures, (80 FR 44208, July 24, 2015), paragraph 5-6.6.f, which covers regulations not expected to cause any potentially significant environmental impacts. The Department does not anticipate any environmental impacts, and there are no extraordinary circumstances present in connection with this final rule.

G. Unfunded Mandates Reform Act

The Department analyzed the final rule under the factors in the Unfunded Mandates Reform Act of 1995. The Department considered whether the rule includes a federal mandate that may result in the expenditure by State, local, and tribal governments, in the aggregate, or by the private sector, of $100,000,000 or more (adjusted annually for inflation) in any one year. The Department has determined that this final rule will not result in such expenditures. Accordingly, this final rule is not subject to the Unfunded Mandates Reform Act.

H. Executive Order 13771

Executive Order 13771, “Reducing Regulation and Controlling Regulatory Costs,” does not apply to this action because it is nonsignificant; therefore, it is not subject to the “2 for 1” and budgeting requirements.

List of Subjects

14 CFR Part 13

Administrative practice and procedure, Air transportation, Hazardous materials transportation, Investigations, Law enforcement, Penalties.

14 CFR Part 383

Administrative practice and procedure, Penalties.

14 CFR Part 406

Administrative procedure and review, Commercial space transportation, Enforcement, Investigations, Penalties, Rules of adjudication.

33 CFR Part 401

Hazardous materials transportation, Navigation (water), Penalties, Radio, Reporting and recordkeeping requirements, Vessels, Waterways.

46 CFR Part 221

Administrative practice and procedure, Maritime carriers, Mortgages, Penalties, Reporting and recordkeeping requirements, Trusts and trustees.

46 CFR Part 307

Marine safety, Maritime carriers, Penalties, Reporting and recordkeeping requirements.

46 CFR Part 340

Harbors, Maritime carriers, National defense, Packaging and containers.

46 CFR Part 356

Citizenship and naturalization, Fishing vessels, Mortgages, Penalties, Reporting and recordkeeping requirements, Vessels.

49 CFR Part 107

Administrative practices and procedure, Hazardous materials transportation, Packaging and containers, Penalties, Reporting and recordkeeping requirements.

49 CFR Part 171

Definitions, General information, Regulations.

49 CFR Part 190

Administrative practice and procedure, Penalties, Pipeline safety.

49 CFR Part 209

Administrative practice and procedure, Hazardous materials transportation, Penalties, Railroad safety, Reporting and recordkeeping requirements.

49 CFR Part 213

Bridges, Penalties, Railroad safety, Reporting and recordkeeping requirements.

49 CFR Part 214

Bridges, Occupational safety and health, Penalties, Railroad safety, Reporting and recordkeeping requirements.

49 CFR Part 215

Freight, Penalties, Railroad safety, Reporting and recordkeeping requirements.

49 CFR Part 216

Penalties, Railroad safety, Reporting and recordkeeping requirements.

49 CFR Part 217

Penalties, Railroad safety, Reporting and recordkeeping requirements.

49 CFR Part 218

Occupational safety and health, Penalties, Railroad employees, Railroad safety, Reporting and recordkeeping requirements.

49 CFR Part 219

Alcohol abuse, Drug abuse, Drug testing, Penalties, Railroad safety, Reporting and recordkeeping requirements, Safety, Transportation.

49 CFR Part 220

Penalties, Radio, Railroad safety, Reporting and recordkeeping requirements.

49 CFR Part 221

Penalties, Railroad safety, Reporting and recordkeeping requirements.

49 CFR Part 222

Administrative practice and procedure, Penalties, Railroad safety, Reporting and recordkeeping requirements.

49 CFR Part 223

Glazing standards, Penalties, Railroad safety, Reporting and recordkeeping requirements.

49 CFR Part 224

Penalties, Railroad safety, Reporting and recordkeeping requirements.

49 CFR Part 225

Investigations, Penalties, Railroad safety, Reporting and recordkeeping requirements.

49 CFR Part 227

Noise control, Occupational safety and health, Penalties, Railroad safety, Reporting and recordkeeping requirements.

49 CFR Part 228

Penalties, Railroad employees, Reporting and recordkeeping requirements.

49 CFR Part 229

Penalties, Railroad safety, Reporting and recordkeeping requirements.

49 CFR Part 230

Penalties, Railroad safety, Reporting and recordkeeping requirements.

49 CFR Part 231

Penalties, Railroad safety.

49 CFR Part 232

Penalties, Railroad safety, Reporting and recordkeeping requirements.

49 CFR Part 233

Penalties, Railroad safety, Reporting and recordkeeping requirements.

49 CFR Part 234

Highway safety, Penalties, Railroad safety, Reporting and recordkeeping requirements, State and local governments.

49 CFR Part 235

Administrative practice and procedure, Penalties, Railroad safety, Railroad signals, Reporting and recordkeeping requirements.

49 CFR Part 236

Penalties, Positive Train Control, Railroad safety, Reporting and recordkeeping requirements.

49 CFR Part 237

Bridges, Penalties, Railroad safety, Reporting and recordkeeping requirements.

49 CFR Part 238

Fire prevention, Penalties, Railroad safety, Reporting and recordkeeping requirements.

49 CFR Part 239

Penalties, Railroad safety, Reporting and recordkeeping requirements.

49 CFR Part 240

Administrative practice and procedure, Penalties, Railroad employees, Railroad safety, Reporting and recordkeeping requirements.

49 CFR Part 241

Communications, Penalties, Railroad safety, Reporting and recordkeeping requirements.

49 CFR Part 242

Administrative practice and procedure, Penalties, Railroad employees, Railroad safety, Reporting and recordkeeping requirements.

49 CFR Part 243

Administrative practice and procedure, Penalties, Railroad employees, Railroad safety, Reporting and recordkeeping requirements.

49 CFR Part 244

Administrative practice and procedure, Penalties, Railroad safety, Reporting and recordkeeping requirements.

49 CFR Part 270

Penalties; Railroad safety; Reporting and recordkeeping requirements; and System safety.

49 CFR Part 272

Penalties, Railroad employees, Railroad safety, Railroads, Safety, Transportation.

49 CFR Part 386

Administrative procedures, Commercial motor vehicle safety, Highways and roads, Motor carriers, Penalties.

49 CFR Part 578

Imports, Motor vehicle safety, Motor vehicles, Rubber and Rubber Products, Tires, Penalties.

Title 14—Aeronautics and Space

PART 13—INVESTIGATIVE AND ENFORCEMENT PROCEDURES

1. The authority citation for part 13 continues to read as follows:

Authority: 18 U.S.C. 6002, 28 U.S.C. 2461 (note); 49 U.S.C. 106(g), 5121-5124, 40113-40114, 44103-44106, 44701-44703, 44709- 44710, 44713, 44725, 46101-46111, 46301, 46302 (for a violation of 49 U.S.C. 46504), 46304-46316, 46318, 46501-46502, 46504-46507, 47106, 47107, 47111, 47122, 47306, 47531- 47532; 49 CFR 1.83.

2. Revise § 13.301 to read as follows:

§ 13.301 Inflation adjustments of civil monetary penalties.

(a) This subpart provides the maximum civil monetary penalties or range of minimum and maximum civil monetary penalties for each statutory civil penalty subject to FAA jurisdiction, as adjusted for inflation.

(b) Each adjustment to a maximum civil monetary penalty or to minimum and maximum civil monetary penalties that establish a civil monetary penalty range applies to actions initiated under this part for violations occurring on or after November 27, 2018, notwithstanding references to specific civil penalty amounts elsewhere in this part.

(c) Minimum and maximum civil monetary penalties are as follows:

Table 1 to § 13.301—Minimum and Maximum Civil Monetary Penalty Amounts for Certain Violations
United States Code citation | Civil monetary penalty description | 2017 minimum penalty amount | New minimum penalty amount for violations occurring on or after 11/27/2018, adjusted for inflation | 2017 maximum penalty amount | New maximum penalty amount for violations occurring on or after 11/27/2018, adjusted for inflation
49 U.S.C. 5123(a)(1) | Violation of hazardous materials transportation law | N/A | N/A | $78,376 | $79,976.
49 U.S.C. 5123(a)(2) | Violation of hazardous materials transportation law resulting in death, serious illness, severe injury, or substantial property destruction | N/A | N/A | $182,877 | $186,610.
49 U.S.C. 5123(a)(3) | Violation of hazardous materials transportation law relating to training | $471 | $481 | $78,376 | $79,976.
49 U.S.C. 46301(a)(1) | Violation by a person other than an individual or small business concern under 49 U.S.C. 46301(a)(1)(A) or (B) | N/A | N/A | $32,666 | $33,333.
49 U.S.C. 46301(a)(1) | Violation by an airman serving as an airman under 49 U.S.C. 46301(a)(1)(A) or (B) (but not covered by 46301(a)(5)(A) or (B)) | N/A | N/A | $1,437 | $1,466.
49 U.S.C. 46301(a)(1) | Violation by an individual or small business concern under 49 U.S.C. 46301(a)(1)(A) or (B) (but not covered in 49 U.S.C. 46301(a)(5)) | N/A | N/A | $1,437 | $1,466.
49 U.S.C. 46301(a)(3) | Violation of 49 U.S.C. 47107(b) (or any assurance made under such section) or 49 U.S.C. 47133 | N/A | N/A | Increase above otherwise applicable maximum amount not to exceed 3 times the amount of revenues that are used in violation of such section | No change.
49 U.S.C. 46301(a)(5)(A) | Violation by an individual or small business concern (except an airman serving as an airman) under 49 U.S.C. 46301(a)(5)(A)(i) or (ii) | N/A | N/A | $13,066 | $13,333.
49 U.S.C. 46301(a)(5)(B)(i) | Violation by an individual or small business concern related to the transportation of hazardous materials | N/A | N/A | $13,066 | $13,333.
49 U.S.C. 46301(a)(5)(B)(ii) | Violation by an individual or small business concern related to the registration or recordation under 49 U.S.C. chapter 441, of an aircraft not used to provide air transportation | N/A | N/A | $13,066 | $13,333.
49 U.S.C. 46301(a)(5)(B)(iii) | Violation by an individual or small business concern of 49 U.S.C. 44718(d), relating to limitation on construction or establishment of landfills | N/A | N/A | $13,066 | $13,333.
49 U.S.C. 46301(a)(5)(B)(iv) | Violation by an individual or small business concern of 49 U.S.C. 44725, relating to the safe disposal of life-limited aircraft parts | N/A | N/A | $13,066 | $13,333.
49 U.S.C. 46301(b) | Tampering with a smoke alarm device | N/A | N/A | $4,194 | $4,280.
49 U.S.C. 46302 | Knowingly providing false information about alleged violation involving the special aircraft jurisdiction of the United States | N/A | N/A | $22,957 | $23,426.
49 U.S.C. 46318 | Interference with cabin or flight crew | N/A | N/A | $34,731 | $35,440.
49 U.S.C. 46319 | Permanent closure of an airport without providing sufficient notice | N/A | N/A | $13,066 | $13,333.
49 U.S.C. 46320 | Operating an unmanned aircraft and in so doing knowingly or recklessly interfering with a wildfire suppression, law enforcement, or emergency response effort | N/A | N/A | $20,000 | $20,408.
49 U.S.C. 47531 | Violation of 49 U.S.C. 47528-47530, relating to the prohibition of operating certain aircraft not complying with stage 3 noise levels | N/A | N/A | See 49 U.S.C. 46301(a)(1) and (a)(5), above | See 49 U.S.C. 46301(a)(1) and (a)(5), above.

3. Part 383 is revised to read as follows:

PART 383—CIVIL PENALTIES

Sec.
383.1 Purpose and periodic adjustment.
383.2 Amount of penalty.

Authority: Sec. 701, Pub. L. 114-74, 129 Stat. 584; Sec. 503, Pub. L. 108-176, 117 Stat. 2490; Pub. L. 101-410, 104 Stat. 890; Sec. 31001, Pub. L. 104-134.

§ 383.1 Purpose and periodic adjustment.

(a) Purpose. This part adjusts the civil penalty liability amounts prescribed in 49 U.S.C. 46301(a) for inflation in accordance with the Act cited in paragraph (b) of this section.

(b) Periodic Adjustment. DOT will periodically adjust the maximum civil penalties set forth in 49 U.S.C. 46301 and this part as required by the Federal Civil Penalties Inflation Adjustment Act of 1990 as amended by the Federal Civil Penalties Inflation Adjustment Act Improvements Act of 2015.

§ 383.2 Amount of penalty.

Civil penalties payable to the U.S. Government for violations of Title 49, Chapters 401 through 421, pursuant to 49 U.S.C. 46301(a), are as follows:

(a) A general civil penalty of not more than $33,333 (or $1,466 for individuals or small businesses) applies to violations of statutory provisions and rules or orders issued under those provisions, other than those listed in paragraph (b) of this section, (see 49 U.S.C. 46301(a)(1));

(b) With respect to small businesses and individuals, notwithstanding the general $1,466 civil penalty, the following civil penalty limits apply:

(1) A maximum civil penalty of $13,333 applies for violations of most provisions of Chapter 401, including the anti-discrimination provisions of sections 40127 (general provision), and 41705 (discrimination against the disabled) and rules and orders issued pursuant to those provisions (see 49 U.S.C. 46301(a)(5)(A));

(2) A maximum civil penalty of $6,666 applies for violations of section 41719 and rules and orders issued pursuant to that provision (see 49 U.S.C. 46301(a)(5)(C)); and

(3) A maximum civil penalty of $3,334 applies for violations of section 41712 or consumer protection rules or orders (see 49 U.S.C. 46301(a)(5)(D)).

PART 406—INVESTIGATIONS, ENFORCEMENT, AND ADMINISTRATIVE REVIEW

4. The authority citation for part 406 continues to read as follows:

Authority: 51 U.S.C. 50901-50923.

5. Amend § 406.9 by revising paragraph (a) to read as follows:

§ 406.9 Civil penalties.

(a) Civil penalty liability. Under 51 U.S.C. 50917(c), a person found by the FAA to have violated a requirement of the Act, a regulation issued under the Act, or any term or condition of a license or permit issued or transferred under the Act, is liable to the United States for a civil penalty of not more than $234,247 for each violation. A separate violation occurs for each day the violation continues.

* * * * *

Title 33—Navigation and Navigable Waters

PART 401—SEAWAY REGULATIONS AND RULES

Subpart A—Regulations

6. The authority citation for subpart A of part 401 is revised to read as follows:

Authority: 33 U.S.C. 981-990, 1231 and 1232, 49 CFR 1.52, unless otherwise noted.

7. Amend § 401.102 by revising paragraph (a) to read as follows:

(a) A person, as described in § 401.101(b) who violates a regulation is liable to a civil penalty of not more than $91,901.

* * * * *

Title 46—Shipping

PART 221—REGULATED TRANSACTIONS INVOLVING DOCUMENTED VESSELS AND OTHER MARITIME INTERESTS

8. The authority citation for part 221 continues to read as follows:

Authority: 46 U.S.C. chs. 301, 313, and 561; Pub. L. 114-74; 49 CFR 1.93.

9. Section 221.61 is revised to read as follows:

§ 221.61 Compliance.

(a) This subpart describes procedures for the administration of civil penalties that the Maritime Administration may assess under 46 U.S.C. 31309, 31330, and 56101, pursuant to 49 U.S.C. 336.

(b) Pursuant to 46 U.S.C. 31309, a general penalty of not more than $20,521 may be assessed for each violation of chapter 313 or 46 U.S.C. subtitle III administered by the Maritime Administration, and the regulations in this part that are promulgated thereunder, except that a person violating 46 U.S.C. 31329 and the regulations promulgated thereunder is liable for a civil penalty of not more than $51, 302 for each violation. A person that charters, sells, transfers or mortgages a vessel, or an interest therein, in violation of 46 U.S.C. 56101(e) is liable for a civil penalty of not more than $19,639 for each violation.

PART 307—ESTABLISHMENT OF MANDATORY POSITION REPORTING SYSTEM FOR VESSELS

10. The authority citation for part 307 continues to read as follows:

Authority: Pub. L. 109-304; 46 U.S.C. 50113; Pub. L. 114-74; 49 CFR 1.93.

11. Section 307.19 is revised to read as follows:

§ 307.19 Penalties.

The owner or operator of a vessel in the waterborne foreign commerce of the United States is subject to a penalty of $130.00 for each day of failure to file an AMVER report required by this part. Such penalty shall constitute a lien upon the vessel, and such vessel may be libeled in the district court of the United States in which the vessel may be found.

PART 340—PRIORITY USE AND ALLOCATION OF SHIPPING SERVICES, CONTAINERS AND CHASSIS, AND PORT FACILITIES AND SERVICES FOR NATIONAL SECURITY AND NATIONAL DEFENSE RELATED OPERATIONS

12. The authority citation for part 340 continues to read as follows:

Authority: 50 U.S.C. 4501 et seq. (“The Defense Production Act”); Executive Order 13603 (77 FR 16651); Executive Order 12656 (53 FR 47491); Pub. L. 114-74; 49 CFR 1.45; 49 CFR 1.93(l).

13. Section 340.9 is revised to read as follows:

§ 340.9 Compliance.

Pursuant 50 U.S.C. 4513 any person who willfully performs any act prohibited, or willfully fails to perform any act required, by the provisions of this regulation shall, upon conviction, be fined not more than $25,928 or imprisoned for not more than one year, or both.

PART 356—REQUIREMENTS FOR VESSELS OF 100 FEET OR GREATER IN REGISTERED LENGTH TO OBTAIN A FISHERY ENDORSEMENT TO THE VESSEL'S DOCUMENTATION

14. The authority citation for part 356 continues to read as follows:

Authority: 46 U.S.C. 12102; 46 U.S.C. 12151; 46 U.S.C. 31322; Pub. L. 105-277, division C, title II, subtitle I, section 203 (46 U.S.C. 12102 note), section 210(e), and section 213(g), 112 Stat. 2681; Pub. L. 107-20, section 2202, 115 Stat. 168-170; Pub. L. 114-74; 49 CFR 1.93.

15. Amend § 356.49 by revising paragraph (b) to read as follows:

§ 356.49 Penalties.

* * * * *

(b) A fine of up to $150,404 may be assessed against the vessel owner for each day in which such vessel has engaged in fishing (as such term is defined in section 3 of the Magnuson-Stevens Fishery Conservation and Management Act (16 U.S.C. 1802) within the exclusive economic zone of the United States; and

* * * * *

Title 49—Transportation

PART 107—HAZARDOUS MATERIALS PROGRAM PROCEDURES

16. The authority citation for part 107 continues to read as follows:

Authority: 49 U.S.C. 5101-5128, 44701; Pub. L. 101-410 section 4; Pub. L. 104-121, sections 212-213; Pub. L. 104-134, section 31001; Pub. L. 114-74 section 4 (28 U.S.C. 2461 note); 49 CFR 1.81 and 1.97.

17. Section 107.329 is revised to read as follows:

§ 107.329 Maximum penalties.

(a) A person who knowingly violates a requirement of the Federal hazardous material transportation law, an order issued thereunder, this subchapter, subchapter C of the chapter, or a special permit or approval issued under this subchapter applicable to the transportation of hazardous materials or the causing of them to be transported or shipped is liable for a civil penalty of not more than $79,976 for each violation, except the maximum civil penalty is $186,610 if the violation results in death, serious illness, or severe injury to any person or substantial destruction of property. There is no minimum civil penalty, except for a minimum civil penalty of $481 for violations relating to training. When the violation is a continuing one, each day of the violation constitutes a separate offense.

(b) A person who knowingly violates a requirement of the Federal hazardous material transportation law, an order issued thereunder, this subchapter, subchapter C of the chapter, or a special permit or approval issued under this subchapter applicable to the design, manufacture, fabrication, inspection, marking, maintenance, reconditioning, repair or testing of a package, container, or packaging component which is represented, marked, certified, or sold by that person as qualified for use in the transportation of hazardous materials in commerce is liable for a civil penalty of not more than $79,976 for each violation, except the maximum civil penalty is $186,610 if the violation results in death, serious illness, or severe injury to any person or substantial destruction of property. There is no minimum civil penalty, except for a minimum civil penalty of $481 for violations relating to training.

18. In appendix A to subpart D of part 107, section II.. under “B. Penalty Increases for Multiple Counts” following the table, the first sentence of the second paragraph is revised to read as follows:

Appendix A to Subpart D of Part 107—Guidelines for Civil Penalties

* * * * *

II. * * *

B. * * *

Under the Federal hazmat law, 49 U.S.C. 5123(a), each violation of the HMR and each day of a continuing violation (except for violations relating to packaging manufacture or qualification) is subject to a civil penalty of up to $79,976 or $186,610 for a violation occurring on or after November 27, 2018. * * *

* * * * *

PART 171—GENERAL INFORMATION, REGULATIONS, AND DEFINITIONS

19. The authority citation for part 171 continues to read as follows:

Authority: 49 U.S.C. 5101-5128, 44701; Pub. L. 101-410 section 4; Pub. L. 104-134, section 31001; Pub. L. 114-74 section 4 (28 U.S.C. 2461 note); 49 CFR 1.81 and 1.97.

20. Amend § 171.1 by revising paragraph (g) to read as follows:

§ 171.1 Applicability of Hazardous Materials Regulations (HMR) to persons and functions.

* * * * *

(g) Penalties for noncompliance. Each person who knowingly violates a requirement of the Federal hazardous material transportation law, an order issued under Federal hazardous material transportation law, subchapter A of this chapter, or a special permit or approval issued under subchapter A or C of this chapter is liable for a civil penalty of not more than $79,976 for each violation, except the maximum civil penalty is $186,610 if the violation results in death, serious illness, or severe injury to any person or substantial destruction of property. There is no minimum civil penalty, except for a minimum civil penalty of $481 for a violation relating to training.

* * * * *

PART 190—PIPELINE SAFETY ENFORCEMENT AND REGULATORY PROCEDURES

21. Amend § 190.223 by revising paragraphs (a) through (d) to read as follows:

§ 190.223 Maximum penalties.

(a) Any person found to have violated a provision of 49 U.S.C. 60101, et seq., or any regulation or order issued thereunder, is subject to an administrative civil penalty not to exceed $213,268 for each violation for each day the violation continues, with a maximum administrative civil penalty not to exceed $2,132,679 for any related series of violations.

(b) Any person found to have violated a provision of 33 U.S.C. 1321(j), or any regulation or order issued thereunder, is subject to an administrative civil penalty under 33 U.S.C. 1321(b)(6), as adjusted by 40 CFR 19.4.

(c) Any person found to have violated any standard or order under 49 U.S.C. 60103 is subject to an administrative civil penalty not to exceed $77,910, which may be in addition to other penalties to which such person may be subject under paragraph (a) of this section.

(d) Any person who is determined to have violated any standard or order under 49 U.S.C. 60129 is subject to an administrative civil penalty not to exceed $1,239, which may be in addition to other penalties to which such person may be subject under paragraph (a) of this section.

* * * * *

PART 209—RAILROAD SAFETY ENFORCEMENT PROCEDURES

22. The authority citation for part 209 continues to read as follows:

Authority: 49 U.S.C. 5123, 5124, 20103, 20107, 20111, 20112, 20114; 28 U.S.C. 2461, note; and 49 CFR 1.89.

23. Amend § 209.103 by revising paragraphs (a) and (c) to read as follows:

§ 209.103 Minimum and maximum penalties.

(a) A person who knowingly violates a requirement of the Federal hazardous materials transportation laws, an order issued thereunder, subchapter A or C of chapter I, subtitle B, of this title, or a special permit or approval issued under subchapter A or C of chapter I, subtitle B, of this title is liable for a civil penalty of not more than $79,976 for each violation, except that—

(1) The maximum civil penalty for a violation is $186,610 if the violation results in death, serious illness, or severe injury to any person, or substantial destruction of property and

(2) A minimum $481 civil penalty applies to a violation related to training.

* * * * *

(c) The maximum and minimum civil penalties described in paragraph (a) of this section apply to violations occurring on or after November 27, 2018.

24. Amend § 209.105 by revising the last sentence of paragraph (c) to read as follows:

§ 209.105 Notice of probable violation.

(c) * * * In an amended notice, FRA may change the civil penalty amount proposed to be assessed up to and including the maximum penalty amount of $79,976 for each violation, except that if the violation results in death, serious illness or severe injury to any person, or substantial destruction of property, FRA may change the penalty amount proposed to be assessed up to and including the maximum penalty amount of $186,610.

§ 209.409 [Amended]

25. Amend § 209.409 as follows:

a. Remove the dollar amount “$853” and add in its place “$870”;

b. Remove the dollar amount “$27,904” and add in its place “$28,474”; and

c. Remove the dollar amount “$111,616” and add in its place “$113,894”.

26. In appendix A to part 209, amend the section “Penalty Schedules; Assessment of Maximum Penalties” by:

a. Adding a sentence to the end of the sixth paragraph;

b. Revising the third sentence of the seventh paragraph; and

c. Revising the first sentence of the tenth paragraph.

The addition and revisions read as follows:

Appendix A to Part 209—Statement of Agency Policy Concerning Enforcement of the Federal Railroad Safety Laws

* * * * *

Penalty Schedules; Assessment of Maximum Penalties

* * * * *

* * * Effective November 27, 2018, the minimum civil monetary penalty was raised from $853 to $870, the ordinary maximum civil monetary penalty was raised from $27,904 to $28,474, and the aggravated maximum civil monetary penalty was raised from $111,616 to $113,894.

* * * For each regulation or order, the schedule shows two amounts within the $870 to $28,474 range in separate columns, the first for ordinary violations, the second for willful violations (whether committed by railroads or individuals). * * *

* * * * *

Accordingly, under each of the schedules (ordinarily in a footnote), and regardless of the fact that a lesser amount might be shown in both columns of the schedule, FRA reserves the right to assess the statutory maximum penalty of up to $113,894 per violation where a pattern of repeated violations or a grossly negligent violation has created an imminent hazard of death or injury or has caused death or injury. * * *

* * * * *

27. Amend appendix B to part 209 as follows:

a. In the introductory text, revise the second sentence of the first paragraph, the last sentence of the second paragraph, and the fifth sentence of the third paragraph; and

b. In the table “CIVIL PENALTY ASSESSMENT GUIDELINES”:

i. Revise footnote 1 of the first table;

ii. Under the heading “PART 173—SHIPPERS—GENERAL REQUIREMENTS FOR SHIPMENTS AND PACKAGES:

1. Remove the entries for “173.24(b)(1) and 173.24(b)(2)” and “173.24(f)(1) and 173.24(f)(1)(ii)” and add an entry for “173.24(b)(1) and 173.24(b)(2) and 173.24(f)(1) and 173.24(f)(1)(ii)” in their place; and

2. Revise the introductory text to the entry for “173.24(c)”; and

iii. Remove footnote 1 of the second table and redesignate footnote 2 as footnote 1 (at text and in table heading) and revise it.

The revisions read as follows:

Appendix B to Part 209—Federal Railroad Administration Guidelines for Initial Hazardous Materials Assessments

* * * The guideline penalty amounts reflect the best judgment of the FRA Office of Railroad Safety (RRS) and of the Safety Law Division of the Office of Chief Counsel (RCC) on the relative severity of the various violations routinely encountered by FRA inspectors on a scale of amounts up to the maximum $79,976 penalty, except the maximum civil penalty is $186,610 if the violation results in death, serious illness or severe injury to any person, or substantial destruction of property, and a minimum $481 penalty applies to a violation related to training. * * *

* * * When a violation of the Federal hazardous material transportation law, an order issued thereunder, the Hazardous Materials Regulations or a special permit, approval, or order issued under those regulations results in death, serious illness or severe injury to any person, or substantial destruction of property, a maximum penalty of at least $79,976 and up to and including $186,610 shall always be assessed initially.

* * * In fact, FRA reserves the express authority to amend the NOPV to seek a penalty of up to $79,976 for each violation, and up to $186,610 for any violation resulting in death, serious illness or severe injury to any person, or substantial destruction of property, at any time prior to issuance of an order. * * *

Civil Penalty Assessment Guidelines

* * * * *

¹ Any person who violates an emergency order issued under the authority of 49 U.S.C. Ch. 201 is subject to a civil penalty of at least $870 and not more than $28,474 per violation, except that where a grossly negligent violation or a pattern of repeated violations has created an imminent hazard of death or injury to persons, or has caused a death or injury, a penalty not to exceed $113,894 per violation may be assessed. Each day that the violation continues is a separate offense. 49 U.S.C. 21301; 28 U.S.C. 2461, note.

49 CFR Section | Description | Guideline amount ¹
* * * * * * *
Part 173—Shippers—General Requirements for Shipments and Packages
* * * * * * *
173.24(b)(1) and 173.24(b)(2) and 173.24(f)(1) and 173.24(f)(1)(ii) | Securing closures: These subsections are the general “no leak” standard for all packagings. Sec. 173.24(b) deals primarily with packaging as a whole, while § 173.24(f) focuses on closures. Use § 173.31(d) for tank cars, when possible. Cite the sections accordingly, using both the leak/non-leak criteria and the package size considerations to reach the appropriate penalty. Any actual leak will aggravate the guideline by, typically, 50%; a leak with contact with a human being will aggravate by at least 100%, up to the maximum of $79,976, and up to $186,610 if the violation results in death, serious illness or injury or substantial destruction of property. For intermodal (IM) portable tanks and other tanks of that size range, use the tank car penalty amounts, as stated in § 173.31.
| —Small bottle or box. | 1,000
| —55-gallon drum. | 2,500
| —Larger container, e.g., IBC; not portable tank or tank car | 5,000
| —IM portable tank, cite § 173.24(f) and use the penalty amounts for tank cars: Residue, generally, § 173.29(a) and, loaded, § 173.31(d).
| —Residue adhering to outside of package (i.e., portable tanks, tank cars, etc.) | 5,000
173.24(c) | Use of package not meeting specifications, including required stencils and markings. The most specific section for the package involved should be cited (see below). The penalty guideline should be adjusted for the size of the container. Any actual leak will aggravate the guideline by, typically, 50%; a leak with contact with a human being will aggravate by at least 100%, up to the maximum of $79,976, and up to $186,610 if the violation results in death, serious illness or injury or substantial destruction of property.
* * * * * * *
¹ A person who knowingly violates the hazardous material transportation law or a regulation, order, special permit, or approval issued thereunder, is subject to a civil penalty of up to $79,976 for each violation, except that the maximum civil penalty for a violation is $186,610 if the violation results in death, serious illness, or severe injury to any person or substantial destruction of property; and a minimum $481 civil penalty applies to a violation related to training. Each day that the violation continues is a separate offense. 49 U.S.C. 5123; 28 U.S.C. 2461, note.

PART 213—TRACK SAFETY STANDARDS

28. The authority citation for part 213 continues to read as follows:

Authority: 49 U.S.C. 20102-20114 and 20142; Sec. 403, Div. A, Public Law 110-432, 122 Stat. 4885; 28 U.S.C. 2461, note; and 49 CFR 1.89.

§ 213.15 [Amended]

29. In § 213.15, amend paragraph (a) as follows:

a. Remove the dollar amount “$853” and add in its place “$870”;

b. Remove the dollar amount “$27,904” and add in its place “$28,474”; and

c. Remove the dollar amount “$111,616” and add in its place “$113,894”.

Appendix B to Part 213—[Amended]

30. In appendix B to part 213, footnote 1, remove the dollar amount “$109,819” and add in its place “the statutory maximum amount”.

PART 214—RAILROAD WORKPLACE SAFETY

31. The authority citation for part 214 continues to read as follows:

Authority: 49 U.S.C. 20103, 20107, 21301, 31304, 28 U.S.C. 2461, note; and 49 CFR 1.89.

§ 214.5 [Amended]

32. Amend § 214.5 as follows:

a. Remove the dollar amount “$853” and add in its place “$870”;

b. Remove the dollar amount “$27,904” and add in its place “$28,474”; and

c. Remove the dollar amount “$111,616” and add in its place “$113,894”.

Appendix A to Part 214—[Amended]

33. In appendix A to part 214, footnote 1, remove the dollar amount “$109,819” and add in its place “the statutory maximum amount”.

PART 215—RAILROAD FREIGHT CAR SAFETY STANDARDS

34. The authority citation for part 215 continues to read as follows:

Authority: 49 U.S.C. 20103, 20107; 28 U.S.C. 241, note; and 49 CFR 1.89.

§ 215.7 [Amended]

35. Amend § 215.7 as follows:

a. Remove the dollar amount “$853” and add in its place “$870”;

b. Remove the dollar amount “$27,904” and add in its place “$28,474”; and

c. Remove the dollar amount “$111,616” and add in its place “$113,894”.

Appendix B to Part 215—[Amended]

36. Amend appendix B to part 215 in the first paragraph of footnote 1 by removing the dollar amount “$27,904” and adding in its place “$28,474” and by removing the dollar amount “$109,819” and adding in its place “the statutory maximum amount”.

PART 216—SPECIAL NOTICE AND EMERGENCY ORDER PROCEDURES: RAILROAD TRACK, LOCOMOTIVE AND EQUIPMENT

37. The authority citation for part 216 continues to read as follows:

Authority: 49 U.S.C. 20102-20104, 20107, 20111, 20133, 20701-20702, 21301-21302, 21304; 28 U.S.C. 2461, note; and 49 CFR 1.89.

§ 216.7 [Amended]

38. Amend § 216.7 as follows:

a. Remove the dollar amount “$853” and add in its place “$870”;

b. Remove the dollar amount “$27,904” and add in its place “$28,474”; and

c. Remove the dollar amount “$111,616” and add in its place “$113,894”.

PART 217—RAILROAD OPERATING RULES

39. The authority citation for part 217 continues to read as follows:

Authority: 49 U.S.C. 20103, 20107; 28 U.S.C. 2461, note; and 49 CFR 1.89.

§ 217.5 [Amended]

40. Amend § 217.5 as follows:

a. Remove the dollar amount “$853” and add in its place “$870”;

b. Remove the dollar amount “$27,904” and add in its place “$28,474”; and

c. Remove the dollar amount “$111,616” and add in its place “$113,894”.

Appendix A to Part 217—[Amended]

41. In appendix A to part 217, footnote 1, remove the dollar amount “$109,819” and add in its place “the statutory maximum amount”.

PART 218—RAILROAD OPERATING PRACTICES

42. The authority citation for part 218 continues to read as follows:

Authority: 49 U.S.C. 20103, 20107; 28 U.S.C. 2461, note; and 49 CFR 1.89.

§ 218.9 [Amended]

43. Amend § 218.9 as follows:

a. Remove the dollar amount “$853” and add in its place “$870”;

b. Remove the dollar amount “$27,904” and add in its place “$28,474”; and

c. Remove the dollar amount “$111,616” and add in its place “$113,894”.

Appendix A to Part 218—[Amended]

44. In appendix A to part 218, footnote 1, remove the dollar amount “$109,819” and add in its place “the statutory maximum amount”.

PART 219—CONTROL OF ALCOHOL AND DRUG USE

45. The authority citation for part 219 continues to read as follows:

Authority: 49 U.S.C. 20103, 20107, 20140, 21301, 21304, 21311; 28 U.S.C. 2461, note; Sec. 412, Div. A, Pub. L. 110-432, 122 Stat. 4889 (49 U.S.C. 20140, note); and 49 CFR 1.89.

§ 219.10 [Amended]

46. In § 219.10, amend as follows:

a. Remove the dollar amount “$650” and add in its place “$870”;

b. Remove the dollar amount “$25,000” and add in its place “$28,474”; and

c. Remove the dollar amount “$105,000” and add in its place “$113,894”.

Appendix A to Part 219—[Amended]

47. In appendix A to part 219, footnote 1, remove the dollar amount “$105,000” and add in its place “the statutory maximum amount”.

PART 220—RAILROAD COMMUNICATIONS

48. The authority citation for part 220 continues to read as follows:

Authority: 49 U.S.C. 20102-20103, 20103, note, 20107, 21301-21302, 20701-20703, 21304, 21311; 28 U.S.C. 2461, note; and 49 CFR 1.89.

§ 220.7 [Amended]

49. Amend § 220.7 as follows:

a. Remove the dollar amount “$853” and add in its place “$870”;

b. Remove the dollar amount “$27,904” and add in its place “$28,474”; and

c. Remove the dollar amount “$111,616” and add in its place “$113,894”.

Appendix C to Part 220—[Amended]

50. In appendix C to part 220, footnote 1, remove the dollar amount “$109,819” and add in its place “the statutory maximum amount”.

PART 221—REAR END MARKING DEVICE—PASSENGER, COMMUTER AND FREIGHT TRAINS

51. The authority citation for part 221 continues to read as follows:

Authority: 49 U.S.C. 20103, 20107; 28 U.S.C. 2461, note; and 49 CFR 1.89.

§ 221.7 [Amended]

52. Amend § 221.7 as follows:

a. Remove the dollar amount “$853” and add in its place “$870”;

b. Remove the dollar amount “$27,904” and add in its place “$28,474”; and

c. Remove the dollar amount “$111,616” and add in its place “$113,894”.

Appendix C to Part 221—[Amended]

53. In appendix C to part 221, footnote 1, remove the dollar amount “$109,819” and add in its place “the statutory maximum amount”.

PART 222—USE OF LOCOMOTIVE HORNS AT PUBLIC HIGHWAY-RAIL GRADE CROSSINGS

54. The authority citation for part 222 continues to read as follows:

Authority: 49 U.S.C. 20103, 20107, 20153, 21301, 21304; 28 U.S.C. 2461, note; and 49 CFR 1.89.

§ 222.11 [Amended]

55. Amend § 222.11 as follows:

a. Remove the dollar amount “$853” and add in its place “$870”;

b. Remove the dollar amount “$27,904” and add in its place “$28,474”; and

c. Remove the dollar amount “$111,616” and add in its place “$113,894”.

Appendix H to Part 222—[Amended]

56. In appendix H to part 222, footnote 1, remove the dollar amount “$109,819” and add in its place “the statutory maximum amount”.

PART 223—SAFETY GLAZING STANDARDS—LOCOMOTIVES, PASSENGER CARS AND CABOOSES

57. The authority citation for part 223 continues to read as follows:

Authority: 49 U.S.C. 20102-20103, 20133, 20701-20702, 21301-21302, 21304; 28 U.S.C. 2461, note; and 49 CFR 1.89.

§ 223.7 [Amended]

58. Amend § 223.7 as follows:

a. Remove the dollar amount “$853” and add in its place “$870”;

b. Remove the dollar amount “$27,904” and add in its place “$28,474”; and

c. Remove the dollar amount “$111,616” and add in its place “$113,894”.

Appendix B to Part 223—[Amended]

59. In appendix B to part 223, footnote 1, remove the dollar amount “$109,819” and add in its place “the statutory maximum amount”.

PART 224—REFLECTORIZATION OF RAIL FREIGHT ROLLING STOCK

60. The authority citation for part 224 continues to read as follows:

Authority: 49 U.S.C. 20103, 20107, 20148 and 21301; 28 U.S.C. 2461, note; and 49 CFR 1.89.

§ 224.11 [Amended]

61. In § 224.11, amend paragraph (a) as follows:

a. Remove the dollar amount “$853” and add in its place “$870”;

b. Remove the dollar amount “$27,904” and add in its place “$28,474”; and

c. Remove the dollar amount “$111,616” and add in its place “$113,894”.

Appendix A to Part 224—[Amended]

62. In appendix A to part 224, footnote 1, remove the dollar amount “$109,819” and add in its place “the statutory maximum amount”.

PART 225—RAILROAD ACCIDENTS/INCIDENTS: REPORTS CLASSIFICATION, AND INVESTIGATIONS

63. The authority citation for part 225 continues to read as follows:

Authority: 49 U.S.C. 103, 322(a), 20103, 20107, 20901-20902, 21301, 21302, 21311; 28 U.S.C. 2461, note; and 49 CFR 1.89.

§ 225.29 [Amended]

64. Amend § 225.29 as follows:

a. Remove the dollar amount “$853” and add in its place “$870”;

b. Remove the dollar amount “$27,904” and add in its place “$28,474”; and

c. Remove the dollar amount “$111,616” and add in its place “$113,894”.

Appendix A to Part 225—[Amended]

65. In appendix A to part 225, footnote 1, remove the dollar amount “$109,819” and add in its place “the statutory maximum amount”.

PART 227—OCCUPATIONAL NOISE EXPOSURE

66. The authority citation for part 227 continues to read as follows:

Authority: 49 U.S.C. 20103, 20103, note, 20701-20702; 28 U.S.C. 2461, note; and 49 CFR 1.89.

§ 227.9 [Amended]

67. In § 227.9, amend paragraph (a) as follows:

a. Remove the dollar amount “$853” and add in its place “$870”;

b. Remove the dollar amount “$27,904” and add in its place “$28,474”; and

c. Remove the dollar amount “$111,616” and add in its place “$113,894”.

Appendix G to Part 227—[Amended]

68. In appendix G to part 227, footnote 1, remove the dollar amount “$109,819” and add in its place “the statutory maximum amount”.

PART 228— PASSENGER TRAIN EMPLOYEE HOURS OF SERVICE; RECORDKEEPING AND REPORTING; SLEEPING QUARTERS

69. The authority citation for part 228 continues to read as follows:

Authority: 49 U.S.C. 103, 20103, 20107, 21101-21109; Sec. 108, Div. A, Public Law 110-432, 122 Stat. 4860-4866, 4893-4894; 49 U.S.C. 21301, 21303, 21304, 21311; 28 U.S.C. 2461, note; and 49 CFR 1.89.

§ 228.6 [Amended]

70. In § 228.6, amend paragraph (a) as follows:

a. Remove the dollar amount “$853” and add in its place “$870”;

b. Remove the dollar amount “$27,904” and add in its place “$28,474”; and

c. Remove the dollar amount “$111,616” and add in its place “$113,894”.

71. In appendix A to part 228, below the heading “GENERAL PROVISIONS,” amend the “Penalty” paragraph by adding a sentence at the end of the paragraph to read as follows:

Appendix A to Part 228—Requirements of the Hours of Service Act: Statement of Agency Policy and Interpretation

* * * * *

General Provisions

* * * * *

Penalty. * * * Effective November 27, 2018, the minimum civil monetary penalty was raised from $853 to $870, the ordinary maximum civil monetary penalty was raised from $27,904 to $28,474, and the aggravated maximum civil monetary penalty was raised from $111,616 to $113,894.

* * * * *

Appendix B to Part 228—[Amended]

72. In appendix B to part 228, footnote 1, remove the dollar amount “$109,819” and add in its place “the statutory maximum amount”.

PART 229—RAILROAD LOCOMOTIVE SAFETY STANDARDS

73. The authority citation for part 229 continues to read as follows:

Authority: 49 U.S.C. 103, 322(a), 20103, 20107, 20901-02, 21301, 21301, 21302, 21311; 28 U.S.C. 2461, note; and 49 CFR 1.89.

§ 229.7 [Amended]

74. In § 229.7, amend paragraph (b) as follows:

a. Remove the dollar amount “$853” and add in its place “$870”;

b. Remove the dollar amount “$27,904” and add in its place “$28,474”; and

c. Remove the dollar amount “$111,616” and add in its place “$113,894”.

Appendix B to Part 229—[Amended]

75. In appendix B to part 229, in the first paragraph of footnote 1, remove the dollar amount “$27,904” and add in its place “$28,474” and remove the dollar amount “$109,819” and add in its place “the statutory maximum amount”.

PART 230—STEAM LOCOMOTIVE INSPECTION AND MAINTENANCE STANDARDS

76. The authority citation for part 230 continues to read as follows:

Authority: 49 U.S.C. 20103, 20107, 20702; 28 U.S.C. 2461, note; and 49 CFR 1.89.

§ 230.4 [Amended]

77. In § 230.4, amend paragraph (a) as follows:

a. Remove the dollar amount “$853” and add in its place “$870”;

b. Remove the dollar amount “$27,904” and add in its place “$28,474”; and

c. Remove the dollar amount “$111,616” and add in its place “$113,894”.

PART 231—RAILROAD SAFETY APPLIANCE STANDARDS

78. The authority citation for part 231 continues to read as follows:

Authority: 49 U.S.C. 20102-20103, 20107, 20131, 20301-20303, 21301-21302, 21304; 28 U.S.C. 2461, note; and 49 CFR 1.89.

§ 231.0 [Amended]

79. In § 231.0, amend paragraph (f) as follows:

a. Remove the dollar amount “$853” and add in its place “$870”;

b. Remove the dollar amount “$27,904” and add in its place “$28,474”; and

c. Remove the dollar amount “$111,616” and add in its place “$113,894”.

Appendix A to Part 231—[Amended]

80. In appendix A to part 231, footnote 1, remove the dollar amount “$109,819” and add in its place “the statutory maximum amount”.

PART 232— BRAKE SYSTEM SAFETY STANDARDS FOR FREIGHT AND OTHER NON-PASSENGER TRAINS AND EQUIPMENT; END-OF-TRAIN DEVICES

81. The authority citation for part 232 continues to read as follows:

Authority: 49 U.S.C. 20102-20103, 20107, 20133, 20141, 20301-20303, 20306, 21301-21302, 21304; 28 U.S.C. 2461, note; and 49 CFR 1.89.

§ 232.11 [Amended]

82. In § 232.11, amend paragraph (a) as follows:

a. Remove the dollar amount “$853” and add in its place “$870”;

b. Remove the dollar amount “$27,904” and add in its place “$28,474”; and

c. Remove the dollar amount “$111,616” and add in its place “$113,894”.

Appendix A to Part 232—[Amended]

83. In appendix A to part 232, in the first paragraph of footnote 1, remove the dollar amount “$27,904” and add in its place “$28,474” and remove the dollar amount “$109,819” and add in its place “the statutory maximum amount”.

PART 233—SIGNAL SYSTEMS REPORTING REQUIREMENTS

84. The authority citation for part 233 continues to read as follows:

Authority: 49 U.S.C. 504, 522, 20103, 20107, 20501-20505, 21301, 21302, 21311; 28 U.S.C. 2461, note; and 49 CFR 1.89.

§ 233.11 [Amended]

85. Amend § 233.11 as follows:

a. Remove the dollar amount “$853” and add in its place “$870”;

b. Remove the dollar amount “$27,904” and add in its place “$28,474”; and

c. Remove the dollar amount “$111,616” and add in its place “$113,894”.

Appendix A to Part 233—[Amended]

86. In appendix A to part 233, footnote 1, remove the dollar amount “$109,819” and add in its place “the statutory maximum amount”.

PART 234—GRADE CROSSING SAFETY

87. The authority citation for part 234 continues to read as follows:

Authority: 49 U.S.C. 20103, 20107, 20152, 20160, 21301, 21304, 21311, 22501 note; Pub. L. 110-432, Div. A., Sec. 202, 28 U.S.C. 2461, note; and 49 CFR 1.89.

§ 234.6 [Amended]

88. In § 234.6, amend paragraph (a) as follows:

a. Remove the dollar amount “$853” and add in its place “$870”;

b. Remove the dollar amount “$27,904” and add in its place “$28,474”; and

c. Remove the dollar amount “$111,616” and add in its place “$113,894”.

Appendix A to Part 234—[Amended]

89. In appendix A to part 234, footnote 1, remove the dollar amount “$109,819” and add in its place “the statutory maximum amount”.

PART 235—INSTRUCTIONS GOVERNING APPLICATIONS FOR APPROVAL OF A DISCONTINUANCE OR MATERIAL MODIFICATION OF A SIGNAL SYSTEM OR RELIEF FROM THE REQUIREMENTS OF PART 236

90. The authority citation for part 235 continues to read as follows:

Authority: 49 U.S.C. 20103, 20107; 28 U.S.C. 2461, note; and 49 CFR 1.89.

§ 235.9 [Amended]

91. Amend § 235.9 as follows:

a. Remove the dollar amount “$853” and add in its place “$870”;

b. Remove the dollar amount “$27,904” and add in its place “$28,474”; and

c. Remove the dollar amount “$111,616” and add in its place “$113,894”.

Appendix A to Part 235—[Amended]

92. In appendix A to part 235, footnote 1, remove the dollar amount “$109,819” and add in its place “the statutory maximum amount”.

PART 236—RULES, STANDARDS, AND INSTRUCTIONS GOVERNING THE INSTALLATION, INSPECTION, MAINTENANCE, AND REPAIR OF SIGNAL AND TRAIN CONTROL SYSTEMS, DEVICES, AND APPLIANCES

93. The authority citation for part 236 continues to read as follows:

Authority: 49 U.S.C. 20102-20103, 20107, 20133, 20141, 20157, 20301-20303, 20306, 20501-20505, 20701-20703, 21301-21302, 21304; 28 U.S.C. 2461, note; and 49 CFR 1.89.

§ 236.0 [Amended]

94. In § 236.0, amend paragraph (f) as follows:

a. Remove the dollar amount “$853” and add in its place “$870”;

b. Remove the dollar amount “$27,904” and add in its place “$28,474”; and

c. Remove the dollar amount “$111,616” and add in its place “$113,894”.

Appendix A to Part 236—[Amended]

95. In appendix A to part 236, footnote 1, remove the dollar amount “$109,819” and add in its place “the statutory maximum amount”.

PART 237—BRIDGE SAFETY STANDARDS

96. The authority citation for part 237 continues to read as follows:

Authority: 49 U.S.C. 20102-20114; Public Law 110-432, Div. A, Sec. 417; 28 U.S.C. 2461, note; and 49 CFR 1.89.

§ 237.7 [Amended]

97. In § 237.7, amend paragraph (a) as follows:

a. Remove the dollar amount “$853” and add in its place “$870”;

b. Remove the dollar amount “$27,904” and add in its place “$28,474”; and

c. Remove the dollar amount “$111,616” and add in its place “$113,894”.

Appendix B to Part 237—[Amended]

98. In appendix B to part 237, footnote 1, remove the dollar amount “$109,819” and add in its place “the statutory maximum amount”.

PART 238—PASSENGER EQUIPMENT SAFETY STANDARDS

99. The authority citation for part 238 continues to read as follows:

Authority: 49 U.S.C. 20103, 20107, 20133, 20141, 20302-20303, 20306, 20701-20702, 21301-21302, 21304; 28 U.S.C. 2461, note; and 49 CFR 1.89.

§ 238.11 [Amended]

100. In § 238.11, amend paragraph (a) as follows:

a. Remove the dollar amount “$853” and add in its place “$870”;

b. Remove the dollar amount “$27,904” and add in its place “$28,474”; and

c. Remove the dollar amount “$111,616” and add in its place “$113,894”.

Appendix A to Part 238—[Amended]

101. In appendix A to part 238, in the first paragraph of footnote 1, remove the dollar amount “$27,904” and add in its place “$28,474” and remove the dollar amount “$109,819” and add in its place “the statutory maximum amount”.

PART 239—PASSENGER TRAIN EMERGENCY PREPAREDNESS

102. The authority citation for part 239 continues to read as follows:

Authority: 49 U.S.C. 20102-20103, 20105-20114, 20133, 21301, 21304, and 21311; 28 U.S.C. 2461, note; and 49 CFR 1.89.

§ 239.11 [Amended]

103. Amend § 239.11 as follows:

a. Remove the dollar amount “$853” and add in its place “$870”;

b. Remove the dollar amount “$27,904” and add in its place “$28,474”; and

c. Remove the dollar amount “$111,616” and add in its place “$113,894”.

Appendix A to Part 239—[Amended]

104. In appendix A to part 239, footnote 1, remove the dollar amount “$109,819” and add in its place “the statutory maximum amount”.

PART 240—QUALIFICATION AND CERTIFICATION OF LOCOMOTIVE ENGINEERS

105. The authority citation for part 240 continues to read as follows:

Authority: 49 U.S.C. 20103, 20107, 20135, 21301, 21304, 21311; 28 U.S.C. 2461, note; and 49 CFR 1.89.

§ 240.11 [Amended]

106. In § 240.11, amend paragraph (a) as follows:

a. Remove the dollar amount “$853” and add in its place “$870”;

b. Remove the dollar amount “$27,904” and add in its place “$28,474”; and

c. Remove the dollar amount “$111,616” and add in its place “$113,894”.

Appendix A to Part 240—[Amended]

107. In appendix A to part 240, footnote 1, remove the dollar amount “$109,819” and add in its place “the statutory maximum amount”.

PART 241—UNITED STATES LOCATIONAL REQUIREMENT FOR DISPATCHING OF UNITED STATES RAIL OPERATIONS

108. The authority citation for part 241 continues to read as follows:

Authority: 49 U.S.C. 20103, 20107, 21301, 21304, 21311; 28 U.S.C. 2461, note; 49 CFR 1.89.

§ 241.15 [Amended]

109. In § 241.15, amend paragraph (a) as follows:

a. Remove the dollar amount “$853” and add in its place “$870”;

b. Remove the dollar amount “$27,904” and add in its place “$28,474”; and

c. Remove the dollar amount “$111,616” and add in its place “$113,894”.

Appendix B to Part 241—[Amended]

110. In appendix B to part 241, footnote 1, remove the dollar amount “$109,819” and add in its place “the statutory maximum amount”.

PART 242—QUALIFICATION AND CERTIFICATION OF CONDUCTORS

111. The authority citation for part 242 continues to read as follows:

Authority: 49 U.S.C. 20103, 20107, 20135, 20138, 20162, 20163, 21301, 21304, 21311; 28 U.S.C. 2461, note; and 49 CFR 1.89.

§ 242.11 [Amended]

112. In § 242.11, amend paragraph (a) as follows:

a. Remove the dollar amount “$853” and add in its place “$870”;

b. Remove the dollar amount “$27,904” and add in its place “$28,474”; and

c. Remove the dollar amount “$111,616” and add in its place “$113,894”.

Appendix A to Part 242—[Amended]

113. In appendix A to part 242, footnote 1, remove the dollar amount “$109,819” and add in its place “the statutory maximum amount”.

PART 243—TRAINING, QUALIFICATION, AND OVERSIGHT FOR SAFETY-RELATED RAILROAD EMPLOYEES

114. The authority citation for part 243 continues to read as follows:

Authority: 49 U.S.C. 20103, 20107, 20131-20155, 20162, 20301-20306, 20701-20702, 21301-21304, 21311; 28 U.S.C. 2461, note; and 49 CFR 1.89.

§ 243.7 [Amended]

115. In § 243.7, amend paragraph (a) as follows:

a. Remove the dollar amount “$853” and add in its place “$870”;

b. Remove the dollar amount “$27,904” and add in its place “$28,474”; and

c. Remove the dollar amount “$111,616” and add in its place “$113,894”.

Appendix to Part 243—[Amended]

116. In the appendix to part 243, footnote 1, remove the dollar amount “$109,819” and add in its place “the statutory maximum amount”.

PART 244—REGULATIONS ON SAFETY INTEGRATION PLANS GOVERNING RAILROAD CONSOLIDATIONS, MERGERS, AND ACQUISITIONS OF CONTROL

117. The authority citation for part 244 is revised to read as follows:

Authority: 49 U.S.C. 20103, 20107, 21301; 5 U.S.C. 553 and 559; 28 U.S.C. 2461, note; and 49 CFR 1.89.

§ 244.5 [Amended]

118. In § 244.5, amend paragraph (a) as follows:

a. Remove the dollar amount “$853” and add in its place “$870”;

b. Remove the dollar amount “$27,904” and add in its place “$28,474”; and

c. Remove the dollar amount “$111,616” and add in its place “$113,894”.

PART 270—SYSTEM SAFETY PROGRAM

119. The authority citation for part 270 continues to read as follows:

Authority: 49 U.S.C. 20103, 20106-20107, 20118-20119, 20156, 21301, 21304, 21311; 28 U.S.C. 2461, note; and 49 CFR 1.89.

§ 270.7 [Amended]

120. In § 270.7, amend paragraph (a) as follows:

a. Remove the dollar amount “$853” and add in its place “$870”;

b. Remove the dollar amount “$27,904” and add in its place “$28,474”; and

c. Remove the dollar amount “$111,616” and add in its place “$113,894”.

PART 272—CRITICAL INCIDENT STRESS PLANS

121. The authority citation for part 272 continues to read as follows:

Authority: 49 U.S.C. 20103, 20107, 20109, note; 28 U.S.C. 2461, note; 49 CFR 1.89; and sec. 410, Div. A, Pub. L. 110-432, 122 Stat. 4888.

§ 272.11 [Amended]

122. In § 272.11, amend paragraph (a) as follows:

a. Remove the dollar amount “$853” and add in its place “$870”;

b. Remove the dollar amount “$27,904” and add in its place “$28,474”; and

c. Remove the dollar amount “$111,616” and add in its place “$113,894”.

Appendix A to Part 272—[Amended]

123. In appendix A to part 272, footnote 1, remove the dollar amount “$109,819” and add in its place “the statutory maximum amount”.

PART 386—RULES OF PRACTICE FOR FMCSA PROCEEDINGS

124. The authority citation for part 386 is revised to read as follows:

Authority: 49 U.S.C. 113; chapters 5, 51, 131-141, 145-149, 311, 313, and 315; Sec. 204, Pub. L. 104-88, 109 Stat. 803, 941 (49 U.S.C. 701 note); Sec. 217, Pub. L. 105-159, 113 Stat. 1748, 1767; Sec. 206, Pub. L. 106-159, 113 Stat. 1763; subtitle B, title IV of Pub. L. 109-59; Sec. 701 of Pub. L. 114-74, 129 Stat. 599 (28 U.S.C. 2461 note); 49 CFR 1.81 and 1.87.

125. Amend Appendix A to part 386 by revising the introductory text and sections II, IV. a. through e., and IV. g. through j. to read as follows:

Appendix A to Part 386—Penalty Schedule: Violations of Notices and Orders

The Civil Penalties Inflation Adjustment Act Improvements Act of 2015 [Pub. L. 114-74, sec. 701, 129 Stat. 599] amended the Federal Civil Penalties Inflation Adjustment Act of 1990 to require agencies to adjust civil penalties for inflation. Pursuant to that authority, the inflation adjusted civil penalties identified in this appendix supersede the corresponding civil penalty amounts identified in title 49, United States Code.

* * * * *

II. Subpoena

Violation—Failure to respond to Agency subpoena to appear and testify or produce records.

Penalty—minimum of $1,066 but not more than $10,663 per violation.

* * * * *

IV. Out-of-Service Order

a. Violation—Operation of a commercial vehicle by a driver during the period the driver was placed out of service.

Penalty—Up to $1,848 per violation.

(For purposes of this violation, the term “driver” means an operator of a commercial motor vehicle, including an independent contractor who, while in the course of operating a commercial motor vehicle, is employed or used by another person.)

b. Violation—Requiring or permitting a driver to operate a commercial vehicle during the period the driver was placed out of service.

Penalty—Up to $18,477 per violation.

(This violation applies to motor carriers including an independent contractor who is not a “driver,” as defined under paragraph IV(a) above.)

c. Violation—Operation of a commercial motor vehicle or intermodal equipment by a driver after the vehicle or intermodal equipment was placed out-of-service and before the required repairs are made.

Penalty—$1,848 each time the vehicle or intermodal equipment is so operated.

(This violation applies to drivers as defined in IV(a) above.)

d. Violation—Requiring or permitting the operation of a commercial motor vehicle or intermodal equipment placed out-of-service before the required repairs are made.

Penalty—Up to $18,477 each time the vehicle or intermodal equipment is so operated after notice of the defect is received.

(This violation applies to intermodal equipment providers and motor carriers, including an independent owner operator who is not a “driver,” as defined in IV(a) above.)

e. Violation—Failure to return written certification of correction as required by the out-of-service order.

Penalty—Up to $924 per violation.

* * * * *

g. Violation—Operating in violation of an order issued under § 386.72(b) to cease all or part of the employer's commercial motor vehicle operations or to cease part of an intermodal equipment provider's operations, i.e., failure to cease operations as ordered.

Penalty—Up to $26,659 per day the operation continues after the effective date and time of the order to cease.

h. Violation—Operating in violation of an order issued under § 386.73.

Penalty—Up to $23,426 per day the operation continues after the effective date and time of the out-of-service order.

i. Violation—Conducting operations during a period of suspension under § 386.83 or § 386.84 for failure to pay penalties.

Penalty—Up to $15,040 for each day that operations are conducted during the suspension or revocation period.

j. Violation—Conducting operations during a period of suspension or revocation under §§ 385.911, 385.913, 385.1009 or 385.1011.

Penalty—Up to $23,426 for each day that operations are conducted during the suspension or revocation period.

126. Amend Appendix B to part 386 by revising the introductory text and paragraphs (a)(1) through (5), (b) through (f), (g) introductory text, (g)(1) through (8), (g)(10) through (14), (g)(16) through (18), (g)(21)(i), (g)(22) and (23), (h), and (i) to read as follows:

Appendix B to Part 386—Penalty Schedule: Violations and Monetary Penalties

The Civil Penalties Inflation Adjustment Act Improvements Act of 2015 [Pub. L. 114-74, sec. 701, 129 Stat. 599] amended the Federal Civil Penalties Inflation Adjustment Act of 1990 to require agencies to adjust civil penalties for inflation. Pursuant to that authority, the inflation adjusted civil penalties identified in this appendix supersede the corresponding civil penalty amounts identified in title 49, United States Code.

What are the types of violations and maximum monetary penalties?

(a) Violations of the Federal Motor Carrier Safety Regulations (FMCSRs):

(1) Recordkeeping. A person or entity that fails to prepare or maintain a record required by parts 40, 382, 385, and 390-99 of this subchapter, or prepares or maintains a required record that is incomplete, inaccurate, or false, is subject to a maximum civil penalty of $1,239 for each day the violation continues, up to $12,383.

(2) Knowing falsification of records. A person or entity that knowingly falsifies, destroys, mutilates, or changes a report or record required by parts 382, 385, and 390-99 of this subchapter, knowingly makes or causes to be made a false or incomplete record about an operation or business fact or transaction, or knowingly makes, prepares, or preserves a record in violation of a regulation order of the Secretary is subject to a maximum civil penalty of $12,383 if such action misrepresents a fact that constitutes a violation other than a reporting or recordkeeping violation.

(3) Non-recordkeeping violations. A person or entity that violates parts 382, 385, or 390-99 of this subchapter, except a recordkeeping requirement, is subject to a civil penalty not to exceed $15,040 for each violation.

(4) Non-recordkeeping violations by drivers. A driver who violates parts 382, 385, and 390-99 of this subchapter, except a recordkeeping violation, is subject to a civil penalty not to exceed $3,760.

(5) Violation of 49 CFR 392.5. A driver placed out of service for 24 hours for violating the alcohol prohibitions of 49 CFR 392.5(a) or (b) who drives during that period is subject to a civil penalty not to exceed $3,096 for a first conviction and not less than $6,192 for a second or subsequent conviction.

* * * * *

(b) Commercial driver's license (CDL) violations. Any person who violates 49 CFR part 383, subparts B, C, E, F, G, or H, is subject to a civil penalty not to exceed $5,591; except:

(1) A CDL-holder who is convicted of violating an out-of-service order shall be subject to a civil penalty of not less than $3,096 for a first conviction and not less than $6,192 for a second or subsequent conviction;

(2) An employer of a CDL-holder who knowingly allows, requires, permits, or authorizes an employee to operate a CMV during any period in which the CDL-holder is subject to an out-of-service order, is subject to a civil penalty of not less than $5,591 or more than $30,956; and

(3) An employer of a CDL-holder who knowingly allows, requires, permits, or authorizes that CDL-holder to operate a CMV in violation of a Federal, State, or local law or regulation pertaining to railroad-highway grade crossings is subject to a civil penalty of not more than $16,048.

* * * * *

(d) Financial responsibility violations. A motor carrier that fails to maintain the levels of financial responsibility prescribed by Part 387 of this subchapter or any person (except an employee who acts without knowledge) who knowingly violates the rules of Part 387 subparts A and B is subject to a maximum penalty of $16,499. Each day of a continuing violation constitutes a separate offense.

(e) Violations of the Hazardous Materials Regulations (HMRs) and Safety Permitting Regulations found in Subpart E of Part 385. This paragraph applies to violations by motor carriers, drivers, shippers and other persons who transport hazardous materials on the highway in commercial motor vehicles or cause hazardous materials to be so transported.

(1) All knowing violations of 49 U.S.C. chapter 51 or orders or regulations issued under the authority of that chapter applicable to the transportation or shipment of hazardous materials by commercial motor vehicle on the highways are subject to a civil penalty of not more than $79,976 for each violation. Each day of a continuing violation constitutes a separate offense.

(2) All knowing violations of 49 U.S.C. chapter 51 or orders or regulations issued under the authority of that chapter applicable to training related to the transportation or shipment of hazardous materials by commercial motor vehicle on the highways are subject to a civil penalty of not less than $481 and not more than $79,976 for each violation.

(3) All knowing violations of 49 U.S.C. chapter 51 or orders, regulations or exemptions under the authority of that chapter applicable to the manufacture, fabrication, marking, maintenance, reconditioning, repair, or testing of a packaging or container that is represented, marked, certified, or sold as being qualified for use in the transportation or shipment of hazardous materials by commercial motor vehicle on the highways are subject to a civil penalty of not more than $79,976 for each violation.

(4) Whenever regulations issued under the authority of 49 U.S.C. chapter 51 require compliance with the FMCSRs while transporting hazardous materials, any violations of the FMCSRs will be considered a violation of the HMRs and subject to a civil penalty of not more than $79,976.

(5) If any violation subject to the civil penalties set out in paragraphs (e)(1) through (4) of this appendix results in death, serious illness, or severe injury to any person or in substantial destruction of property, the civil penalty may be increased to not more than $186,610 for each offense.

(f) Operating after being declared unfit by assignment of a final “unsatisfactory” safety rating. (1) A motor carrier operating a commercial motor vehicle in interstate commerce (except owners or operators of commercial motor vehicles designed or used to transport hazardous materials for which placarding of a motor vehicle is required under regulations prescribed under 49 U.S.C. chapter 51) is subject, after being placed out of service because of receiving a final “unsatisfactory” safety rating, to a civil penalty of not more than $26,659 (49 CFR 385.13). Each day the transportation continues in violation of a final “unsatisfactory” safety rating constitutes a separate offense.

(2) A motor carrier operating a commercial motor vehicle designed or used to transport hazardous materials for which placarding of a motor vehicle is required under regulations prescribed under 49 U.S.C. chapter 51 is subject, after being placed out of service because of receiving a final “unsatisfactory” safety rating, to a civil penalty of not more than $79,976 for each offense. If the violation results in death, serious illness, or severe injury to any person or in substantial destruction of property, the civil penalty may be increased to not more than $186,610 for each offense. Each day the transportation continues in violation of a final “unsatisfactory” safety rating constitutes a separate offense.

(g) Violations of the commercial regulations (CRs). Penalties for violations of the CRs are specified in 49 U.S.C. chapter 149. These penalties relate to transportation subject to the Secretary's jurisdiction under 49 U.S.C. chapter 135. Unless otherwise noted, a separate violation occurs for each day the violation continues.

(1) A person who operates as a motor carrier for the transportation of property in violation of the registration requirements of 49 U.S.C. 13901 is liable for a minimum penalty of $10,663 per violation.

(2) A person who knowingly operates as a broker in violation of registration requirements of 49 U.S.C. 13904 or financial security requirements of 49 U.S.C. 13906 is liable for a penalty not to exceed $10,663 for each violation.

(3) A person who operates as a motor carrier of passengers in violation of the registration requirements of 49 U.S.C. 13901 is liable for a minimum penalty of $26,659 per violation.

(4) A person who operates as a foreign motor carrier or foreign motor private carrier of property in violation of the provisions of 49 U.S.C. 13902(c) is liable for a minimum penalty of $10,663 per violation.

(5) A person who operates as a foreign motor carrier or foreign motor private carrier without authority, before the implementation of the land transportation provisions of the North American Free Trade Agreement, outside the boundaries of a commercial zone along the United States-Mexico border, is liable for a maximum penalty of $14,664 for an intentional violation and a maximum penalty of $36,662 for a pattern of intentional violations.

(6) A person who operates as a motor carrier or broker for the transportation of hazardous wastes in violation of the registration provisions of 49 U.S.C. 13901 is liable for a minimum penalty of $21,327 and a maximum penalty of $42,654 per violation.

(7) A motor carrier or freight forwarder of household goods, or their receiver or trustee, that does not comply with any regulation relating to the protection of individual shippers, is liable for a minimum penalty of $1,604 per violation.

(8) A person—

(i) Who falsifies, or authorizes an agent or other person to falsify, documents used in the transportation of household goods by motor carrier or freight forwarder to evidence the weight of a shipment or

(ii) Who charges for services which are not performed or are not reasonably necessary in the safe and adequate movement of the shipment is liable for a minimum penalty of $3,210 for the first violation and $8,025 for each subsequent violation.

* * * * *

(10) A person who offers, gives, solicits, or receives transportation of property by a carrier at a different rate than the rate in effect under 49 U.S.C. 13702 is liable for a maximum penalty of $160,484 per violation. When acting in the scope of his/her employment, the acts or omissions of a person acting for or employed by a carrier or shipper are considered to be the acts or omissions of that carrier or shipper, as well as that person.

(11) Any person who offers, gives, solicits, or receives a rebate or concession related to motor carrier transportation subject to jurisdiction under subchapter I of 49 U.S.C. chapter 135, or who assists or permits another person to get that transportation at less than the rate in effect under 49 U.S.C. 13702, commits a violation for which the penalty is $320 for the first violation and $401 for each subsequent violation.

(12) A freight forwarder, its officer, agent, or employee, that assists or willingly permits a person to get service under 49 U.S.C. 13531 at less than the rate in effect under 49 U.S.C. 13702 commits a violation for which the penalty is up to $803 for the first violation and up to $3,210 for each subsequent violation.

(13) A person who gets or attempts to get service from a freight forwarder under 49 U.S.C. 13531 at less than the rate in effect under 49 U.S.C. 13702 commits a violation for which the penalty is up to $803 for the first violation and up to $3,210 for each subsequent violation.

(14) A person who knowingly authorizes, consents to, or permits a violation of 49 U.S.C. 14103 relating to loading and unloading motor vehicles or who knowingly violates subsection (a) of 49 U.S.C. 14103 is liable for a penalty of not more than $16,048 per violation.

* * * * *

(16) A person required to make a report to the Secretary, answer a question, or make, prepare, or preserve a record under part B of subtitle IV, title 49, U.S.C., or an officer, agent, or employee of that person, is liable for a minimum penalty of $1,066 and for a maximum penalty of $8,025 per violation if it does not make the report, does not completely and truthfully answer the question within 30 days from the date the Secretary requires the answer, does not make or preserve the record in the form and manner prescribed, falsifies, destroys, or changes the report or record, files a false report or record, makes a false or incomplete entry in the record about a business-related fact, or prepares or preserves a record in violation of a regulation or order of the Secretary.

(17) A motor carrier, water carrier, freight forwarder, or broker, or their officer, receiver, trustee, lessee, employee, or other person authorized to receive information from them, who discloses information identified in 49 U.S.C. 14908 without the permission of the shipper or consignee is liable for a maximum penalty of $3,210.

(18) A person who violates a provision of part B, subtitle IV, title 49, U.S.C., or a regulation or order under part B, or who violates a condition of registration related to transportation that is subject to jurisdiction under subchapter I or III of chapter 135, or who violates a condition of registration of a foreign motor carrier or foreign motor private carrier under section 13902, is liable for a penalty of $803 for each violation if another penalty is not provided in 49 U.S.C. chapter 149.

* * * * *

(21) A person—

(i) Who knowingly and willfully fails, in violation of a contract, to deliver to, or unload at, the destination of a shipment of household goods in interstate commerce for which charges have been estimated by the motor carrier transporting such goods, and for which the shipper has tendered a payment in accordance with part 375, subpart G of this chapter, is liable for a civil penalty of not less than $16,048 for each violation. Each day of a continuing violation constitutes a separate offense.

* * * * *

(22) A broker for transportation of household goods who makes an estimate of the cost of transporting any such goods before entering into an agreement with a motor carrier to provide transportation of household goods subject to FMCSA jurisdiction is liable to the United States for a civil penalty of not less than $12,383 for each violation.

(23) A person who provides transportation of household goods subject to jurisdiction under 49 U.S.C. chapter 135, subchapter I, or provides broker services for such transportation, without being registered under 49 U.S.C. chapter 139 to provide such transportation or services as a motor carrier or broker, as the case may be, is liable to the United States for a civil penalty of not less than $30,956 for each violation.

(h) Copying of records and access to equipment, lands, and buildings. A person subject to 49 U.S.C. chapter 51 or a motor carrier, broker, freight forwarder, or owner or operator of a commercial motor vehicle subject to part B of subtitle VI of title 49 U.S.C. who fails to allow promptly, upon demand in person or in writing, the Federal Motor Carrier Safety Administration, an employee designated by the Federal Motor Carrier Safety Administration, or an employee of a MCSAP grant recipient to inspect and copy any record or inspect and examine equipment, lands, buildings, and other property, in accordance with 49 U.S.C. 504(c), 5121(c), and 14122(b), is subject to a civil penalty of not more than $1,239 for each offense. Each day of a continuing violation constitutes a separate offense, except that the total of all civil penalties against any violator for all offenses related to a single violation shall not exceed $12,383.

(i) Evasion. A person, or an officer, employee, or agent of that person:

(1) Who by any means tries to evade regulation of motor carriers under title 49, United States Code, chapter 5, chapter 51, subchapter III of chapter 311 (except sections 31138 and 31139) or sections 31302, 31303, 31304, 31305(b), 31310(g)(1)(A), or 31502, or a regulation issued under any of those provisions, shall be fined at least $2,133 but not more than $5,332 for the first violation and at least $2,665 but not more than $7,997 for a subsequent violation.

(2) Who tries to evade regulation under part B of subtitle IV, title 49, U.S.C., for carriers or brokers is liable for a penalty of at least $2,133 for the first violation or at least $5,332 for a subsequent violation.

PART 578—CIVIL AND CRIMINAL PENALTIES

127. The authority citation for 49 CFR part 578 is revised to read as follows:

Authority: Pub. L. 92-513, Pub. L. 94-163, Pub. L. 98-547, Pub. L. 101-410, Pub. L. 102-388, Pub. L. 102-519, Pub. L. 104-134, Pub. L. 109-59, Pub. L. 110-140, Pub. L. 112-141, Pub. L. 114-74, Pub. L. 114-94, 49 U.S.C. 30165, 30170, 30505, 32308, 32309, 32507, 32709, 32710, 32902, 32912, 33114 and 33115; delegation of authority at 49 CFR 1.81, 1.95.

128. Section 578.5 is revised to read as follows:

§ 578.5 Inflationary adjustment of civil penalties.

The civil penalties set forth in this part continue in effect until adjusted by the Administrator. The Administrator shall review the amount of these civil penalties annually and will, if appropriate, adjust them by rule.

129. Amend § 578.6 by revising paragraphs (a) through (g), and (i) to read as follows:

§ 578.6 Civil penalties for violations of specified provisions of Title 49 of the United States Code.

(a) Motor vehicle safety—(1) In general. A person who violates any of sections 30112, 30115, 30117 through 30122, 30123(a), 30125(c), 30127, or 30141 through 30147 of Title 49 of the United States Code or a regulation prescribed under any of those sections is liable to the United States Government for a civil penalty of not more than $21,780 for each violation. A separate violation occurs for each motor vehicle or item of motor vehicle equipment and for each failure or refusal to allow or perform an act required by any of those sections. The maximum civil penalty under this paragraph for a related series of violations is $108,895,910.

(2) School buses. (i) Notwithstanding paragraph (a)(1) of this section, a person who:

(A) Violates section 30112(a)(1) of Title 49 United States Code by the manufacture, sale, offer for sale, introduction or delivery for introduction into interstate commerce, or importation of a school bus or school bus equipment (as those terms are defined in 49 U.S.C. 30125(a)); or

(B) Violates section 30112(a)(2) of Title 49 United States Code, shall be subject to a civil penalty of not more than $12,383 for each violation. A separate violation occurs for each motor vehicle or item of motor vehicle equipment and for each failure or refusal to allow or perform an act required by this section. The maximum penalty under this paragraph for a related series of violations is $18,574,064.

(3) Section 30166. A person who violates Section 30166 of Title 49 of the United States Code or a regulation prescribed under that section is liable to the United States Government for a civil penalty for failing or refusing to allow or perform an act required under that section or regulation. The maximum penalty under this paragraph is $21,780 per violation per day. The maximum penalty under this paragraph for a related series of daily violations is $108,895,910.

(4) False and misleading reports. A person who knowingly and willfully submits materially false or misleading information to the Secretary, after certifying the same information as accurate under the certification process established pursuant to Section 30166(o), shall be subject to a civil penalty of not more than $5,332 per day. The maximum penalty under this paragraph for a related series of daily violations is $1,066,340.

(b) National Automobile Title Information System. An individual or entity violating 49 U.S.C. Chapter 305 is liable to the United States Government for a civil penalty of not more than $1,739 for each violation.

(c) Bumper standards. (1) A person that violates 49 U.S.C. 32506(a) is liable to the United States Government for a civil penalty of not more than $2,852 for each violation. A separate violation occurs for each passenger motor vehicle or item of passenger motor vehicle equipment involved in a violation of 49 U.S.C. 32506(a)(1) or (4)—

(i) That does not comply with a standard prescribed under 49 U.S.C. 32502, or

(ii) For which a certificate is not provided, or for which a false or misleading certificate is provided, under 49 U.S.C. 32504.

(2) The maximum civil penalty under this paragraph (c) for a related series of violations is $3,176,131.

(d) Consumer information—(1) Crash-worthiness and damage susceptibility. A person who violates 49 U.S.C. 32308(a), regarding crashworthiness and damage susceptibility, is liable to the United States Government for a civil penalty of not more than $2,852 for each violation. Each failure to provide information or comply with a regulation in violation of 49 U.S.C. 32308(a) is a separate violation. The maximum penalty under this paragraph for a related series of violations is $1,555,656.

(2) Consumer tire information. Any person who fails to comply with the national tire fuel efficiency program under 49 U.S.C. 32304A is liable to the United States Government for a civil penalty of not more than $59,029 for each violation.

(e) Country of origin content labeling. A manufacturer of a passenger motor vehicle distributed in commerce for sale in the United States that willfully fails to attach the label required under 49 U.S.C. 32304 to a new passenger motor vehicle that the manufacturer manufactures or imports, or a dealer that fails to maintain that label as required under 49 U.S.C. 32304, is liable to the United States Government for a civil penalty of not more than $1,739 for each violation. Each failure to attach or maintain that label for each vehicle is a separate violation.

(f) Odometer tampering and disclosure. (1) A person that violates 49 U.S.C. Chapter 327 or a regulation prescribed or order issued thereunder is liable to the United States Government for a civil penalty of not more than $10,663 for each violation. A separate violation occurs for each motor vehicle or device involved in the violation. The maximum civil penalty under this paragraph for a related series of violations is $1,066,340.

(2) A person that violates 49 U.S.C. Chapter 327 or a regulation prescribed or order issued thereunder, with intent to defraud, is liable for three times the actual damages or $10,663, whichever is greater.

(g) Vehicle theft protection. (1) A person that violates 49 U.S.C. 33114(a)(1)-(4) is liable to the United States Government for a civil penalty of not more than $2,343 for each violation. The failure of more than one part of a single motor vehicle to conform to an applicable standard under 49 U.S.C. 33102 or 33103 is only a single violation. The maximum penalty under this paragraph for a related series of violations is $585,619.

(2) A person that violates 49 U.S.C. 33114(a)(5) is liable to the United States Government for a civil penalty of not more than $173,951 a day for each violation.

* * * * *

(i) Medium- and heavy-duty vehicle fuel efficiency. The maximum civil penalty for a violation of the fuel consumption standards of 49 CFR part 535 is not more than $40,852 per vehicle or engine. The maximum civil penalty for a related series of violations shall be determined by multiplying $40, 852 times the vehicle or engine production volume for the model year in question within the regulatory averaging set.

Issued in Washington, DC, under authority delegated at 49 CFR 1.27(n).
Steven G. Bradbury,
General Counsel.

[FR Doc. 2018-24930 Filed 11-26-18; 8:45 am]

BILLING CODE 4910-9X-P